FEDERAL COMMUNICATIONS COMMISSION

47 CFR Parts 1, 2, 13, 15, 17, 22, 24, 25, 26, 27, 30, 52, 54, 63, 64, 73, 76, 80, 87, 88, 90, 95, 96, 97, 101

[GN Docket No. 25-166; FCC 25-28; FR ID 299066]

Protecting Our Communications Networks by Promoting Transparency Regarding Foreign Adversary Control

AGENCY: Federal Communications Commission.

ACTION: Proposed rule.

SUMMARY: In this document, the Federal Communications Commission (Commission) proposes to protect the Nation's communications networks against foreign adversary threats by proposing to expand foreign ownership disclosure requirements for covered Commission-issued licenses and authorizations. The proposed certification and information collection requirements would fill gaps in the Commission's existing rules and give the Commission, and the public, a new and comprehensive view of threats from foreign adversaries in the communications sector. Specifically, the Commission proposes to apply new certification and disclosure requirements on entities holding every type of license, permit, or authorization, rather than only certain specific licenses, as the Commission currently does. Furthermore, the Commission proposes to go beyond foreign ownership to also cover all regulated entities controlled by or subject to the jurisdiction or direction of a foreign adversary.

DATES: Comments are due on or before July 21, 2025, and reply comments are due on or before August 19, 2025.

ADDRESSES: Pursuant to §§ 1.415 and 1.419 of the Commission's rules, 47 CFR 1.415, 1.419, interested parties may file comments and reply comments, identified by GN Docket No. 25-166, by any of the following methods:

• Electronic Filers: Comments may be filed electronically using the internet by accessing the Commission's Electronic Comment Filing System (ECFS): https://www.fcc.gov/ecfs/. See Electronic Filing of Documents in Rulemaking Proceedings, 63 FR 24121 (1998).

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8 a.m. and 4 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

Accessible formats. To request materials in accessible formats for people with disabilities (Braille, large print, electronic files, audio format), send an email to fcc504@fcc.gov or call the Consumer & Governmental Affairs Bureau at 202-418-0530 (voice).

FOR FURTHER INFORMATION CONTACT: For further information about the Notice of Proposed Rulemaking (NPRM), contact Mason Shefa, Attorney Advisor, Competition Policy Division, Wireline Competition Bureau, at Mason.Shefa@fcc.gov. For additional information concerning the Paperwork Reduction Act proposed information collection requirements contained in this document, send an email to PRA@fcc.gov or contact Nicole Ongele at (202) 418-2991.

SUPPLEMENTARY INFORMATION: This is a summary of the Commission's NPRM, FCC 25-28, in GN Docket No. 25-166, adopted on May 22, 2025, and released on May 27, 2025. The complete text of this document is available for download at https://docs.fcc.gov/public/attachments/FCC-25-28A1.pdf.

Paperwork Reduction Act: The NPRM may contain proposed new and revised information collection requirements. The Commission, as part of its continuing effort to reduce paperwork burdens, invites the general public and the Office of Management and Budget (OMB) to comment on the information collection requirements described in this document, as required by the Paperwork Reduction Act of 1995, Public Law 104-13. In addition, pursuant to the Small Business Paperwork Relief Act of 2002, Public Law 107-198, see 44 U.S.C. 3506(c)(4), we seek specific comment on how we might further reduce the information collection burden for small business concerns with fewer than 25 employees.

Providing Accountability Through Transparency Act: Consistent with the Providing Accountability Through Transparency Act, Public Law 118-9, a summary of this document will be available on https://www.fcc.gov/proposed-rulemakings.

Ex Parte Rules: The proceeding the NPRM initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the Commission's rules or for which the Commission has made available a method of electronic filing, written ex parte presentations and memoranda summarizing oral ex parte presentations, and all attachments thereto, must, when feasible, be filed through the electronic comment filing system available for that proceeding, and must be filed in their native format (e.g., .doc, .xml, .ppt, searchable .pdf). Participants in this proceeding should familiarize themselves with the Commission's ex parte rules.

Synopsis

I. Discussion

The Commission has long recognized the importance of protecting our communications networks against foreign threats. From decades of review of foreign ownership in licensing applications to the creation of the Covered List of equipment and services that pose unacceptable risks to national security, and the revocation of foreign adversary authorizations, the Commission has taken seriously the national security, law enforcement, foreign policy, and trade policy risks that may be presented by foreign ownership and control of Commission licensees and authorization holders. In this NPRM, we build on this important work and propose to adopt requirements that would further our understanding of threats from foreign adversaries. The proposed certification and information collection requirements would fill gaps in the Commission's existing rules and give the Commission, and the public, a new and comprehensive view of threats from foreign adversaries in the communications sector. Specifically, the Commission proposes to apply new certification and disclosure requirements on entities holding every type of license, permit, or authorization, rather than only certain specific licenses, as the Commission currently does. Furthermore, the Commission proposes to go beyond foreign ownership to also cover all regulated entities controlled by or subject to the jurisdiction or direction of a foreign adversary. By focusing on foreign adversary ownership or control, rather than foreign influence more broadly, our proposed rules are tailored to avoid needless burden on regulated entities.

A. Scope of the Information Collection

In the NPRM, we seek comment on the scope of licenses, authorizations, permits, and other approvals subject to the certification and information collection requirements we propose below. We first consider how to define the terms “person owned by, controlled by, or subject to the jurisdiction or direction of a foreign adversary,” and “foreign adversary” for the purposes of our proposed rules. We then consider which types of licenses, authorizations, permits, and other approvals would trigger reporting requirements for their holders under our proposed rules.

1. Definitions

For the purposes of our certification and information collection requirements, we propose adopting the term “person owned by, controlled by, or subject to the jurisdiction or direction of a foreign adversary,” and defining it consistently with the definition in the Department of Commerce's rules. 15 CFR 791.2 defines a “person owned by, controlled by, or subject to the jurisdiction or direction of a foreign adversary” as:

(1) Any person, wherever located, who acts as an agent, representative, or employee, or any person who acts in any other capacity at the order, request, or under the direction or control, of a foreign adversary or of a person whose activities are directly or indirectly supervised, directed, controlled, financed, or subsidized in whole or in majority part by a foreign adversary;

(2) Any person, wherever located, who is a citizen or resident of a foreign adversary or a country controlled by a foreign adversary, and is not a United States citizen or permanent resident of the United States;

(3) Any corporation, partnership, association, or other organization with a principal place of business in, headquartered in, incorporated in, or otherwise organized under the laws of a foreign adversary or a country controlled by a foreign adversary; or

(4) Any corporation, partnership, association, or other organization, wherever organized or doing business, that is owned or controlled by a foreign adversary, to include circumstances in which any person identified in paragraphs (1) through (3) of this definition possesses the power, direct or indirect, whether or not exercised, through the ownership of a majority or a dominant minority of the total outstanding voting interest in an entity, board representation, proxy voting, a special share, contractual arrangements, formal or informal arrangements to act in concert, or other means, to determine, direct, or decide important matters affecting an entity.

We note that the Commission has adopted this same definition in the context of our equipment authorization program. We seek comment on adopting this term and proposed definition in our rules. What are the benefits to adopting a definition that is consistent with the definition used by the Department of Commerce? What are the drawbacks, if any? Should we instead adopt a modified or different definition? We note that this term is broader in scope than analogous Commission reporting requirements as it includes not only persons “owned by” a foreign adversary, but also persons “controlled by, or subject to the jurisdiction or direction of a foreign adversary.” We believe extending beyond ownership is necessary and appropriate to comprehensively understand all mechanisms of foreign adversary control. Such an extension beyond ownership is consistent with recent Commission actions and analogous congressional statutes and Executive Branch rules. Do commenters agree that this broader scope is appropriate for these proposed reporting requirements? Does the Commission's public interest responsibility in promoting national security outweigh any increased burdens associated with this broader scope? Do commenters agree that we should adopt this definition as applied to the certification and reporting requirements for all licensees, authorization holders, permit holders, and holders of other approvals granted by the Commission (collectively, Regulatees) described in Part III.A.2? If not, what definitions should we apply to which Regulatees or types of licenses, authorizations, permits, and other approvals?

We propose interpreting “that is owned . . . by a foreign adversary” in paragraph (4) to include both voting and equity interests. We also propose interpreting “dominant minority” to mean a minimum of 10% interest consistent with Commission rules governing disclosure of interest holders in applications of common carriers for Section 214 authority, and propose applying the term “dominant minority” to both voting and equity interests. The Commission uses a 5% threshold for broadcast licensees and a 10% threshold for certain other licenses and authorizations. We seek comment on these proposals. Is there any reason why we should not include equity interests in our interpretation of ownership for the purposes of this definition? Conversely, should we expand our definition to include controlling interests to capture interests that go beyond equity and voting interests? Given the importance of protecting U.S. national security interests, is 10% an appropriate threshold for reporting foreign ownership, or should it be higher or lower? Do commenters agree that the definition of “dominant minority” should be the same in relation to both voting and equity interests, or should we adopt a different percentage for each type of interest? Do commenters agree that adopting the same minimum reporting thresholds across all Regulatees and types of licenses, authorizations, permits, and other approvals would promote regulatory consistency and thereby reduce burdens? If not, what reporting threshold would be appropriate for each type of license or Regulatee? Notwithstanding the language in paragraph (2) of the definition limiting the definition's applicability to non-United States citizens, we also seek comment on whether we should apply the certification and reporting requirements to United States citizens who hold dual citizenship or multiple citizenships, and foreign persons who are citizens of two or more countries, regardless of U.S. citizenship or permanent residency in the United States. What are the benefits and drawbacks to this approach? We note that our proposed reporting requirements include disclosure of all 5% or greater direct or indirect equity and/or voting interest holders, including natural person interest holders that have dual or more citizenships, and the identification of all countries of which citizenship is held.

We propose defining “foreign adversary,” in accordance with 15 CFR 791.2 of the Department of Commerce's rules, as “any foreign government or foreign non-government person determined by the Secretary [of Commerce] to have engaged in a long-term pattern or serious instances of conduct significantly adverse to the national security of the United States or security and safety of United States persons.” Adopting this definition of “foreign adversary” would be consistent with our earlier action in the Evolving Risks Order to conduct a one-time collection of foreign ownership information from international section 214 authorization holders. Such determinations are made with extensive input from across national security agencies, including (1) the National Security Strategy of the United States; (2) [t]he Director of National Intelligence's Worldwide Threat Assessments of the U.S. Intelligence Community; (3) [t]he National Cyber Strategy of the United States of America; and (4) [r]eports and assessments from the U.S. Intelligence Community, the U.S. Departments of Justice, State and Homeland Security, and other relevant sources We also propose adopting the list of foreign governments and foreign non-government persons designated as foreign adversaries by the Secretary of Commerce under § 791.4 of the Department of Commerce's rules. Section 791.4 currently lists six foreign governments and foreign non-government persons that “have engaged in a long-term pattern or serious instances of conduct significantly adverse to the national security of the United States or security and safety of United States persons and, therefore, constitute foreign adversaries” for the purposes of § 791.2: the People's Republic of China (including the Hong Kong Special Administrative Region and the Macau Special Administrative Region (China)), the Republic of Cuba (Cuba), the Islamic Republic of Iran (Iran), the Democratic People's Republic of Korea (North Korea), the Russian Federation (Russia), and Venezuelan politician Nicolás Maduro (Maduro Regime). The President recently reaffirmed that these countries or entities are considered “foreign adversaries.” We propose cross-referencing § 791.4 in our rules such that, should the list of foreign governments and foreign non-government persons change in the future, our rules would remain consistent with those changes. We seek comment on these proposals. Are there additional foreign governments or foreign non-government persons which we should include on our list that are not included in the Department of Commerce's list, and why? Should any foreign governments or foreign non-government persons on the Department of Commerce's list not be included in our list, and why not? Should we instead adopt different lists as applied to different types of Regulatees or licenses, authorizations, permits, and other approvals, and if so, would this approach be burdensome or minimize burdens?

Other definitional sources. We alternatively seek comment on whether we should instead rely on other sources for determining the proper scope of entities subject to our proposed information collection and certification requirements. For instance, should we incorporate other U.S. government determinations that certain individuals and entities pose national security or other risks, such as the Consolidated Screening List from the Departments of Commerce, State, and Treasury? The Consolidated Screening List is a list of parties for which the U.S. Government maintains restrictions on certain exports, reexports, or transfers of items.

Section 40207 of the Infrastructure Investment and Jobs Act (IIJA) (codified at 42 U.S.C. 18741) defines “foreign entity of concern” as a “foreign entity that is (A) designated as a foreign terrorist organization by the Secretary of State . . . ; (B) included on the list of specially designated nationals and blocked persons maintained by the Office of Foreign Assets Control of the Department of the Treasury . . . ; (C) owned by, controlled by, or subject to the jurisdiction or direction of a government of a foreign country that is a covered nation (as defined in [10 U.S.C. 2533c(d)]); (D) alleged by the Attorney General to have been involved in activities for which a conviction was obtained under [a variety of different laws]; or (E) determined by the Secretary [of Energy], in consultation with the Secretary of Defense and the Director of National Intelligence, to be engaged in unauthorized conduct that is detrimental to the national security or foreign policy of the United States.” We seek comment on whether we should instead adopt this term and definition, or some variation of it, instead of “foreign adversary” as defined by the Department of Commerce. What are the benefits or drawbacks of this term and definition compared with “foreign adversary”? How might the statutory definition be tailored to address the drawbacks, if adoption of this term is preferable?

Alternatively, under section 2(c)(2) of the Protecting Americans' Data from Foreign Adversaries Act of 2024 (codified at 15 U.S.C. 9901(c)(2)) the term “controlled by a foreign adversary,” means, “with respect to an individual or entity, that such individual or entity is—(A) a foreign person that is domiciled in, is headquartered in, has its principal place of business in, or is organized under the laws of a foreign adversary country; (B) an entity with respect to which a foreign person or combination of foreign persons described in subparagraph (A) directly or indirectly own at least a 20 percent stake; or (C) a person subject to the direction or control of a foreign person or entity described in subparagraph (A) or (B).” Do commenters suggest that this term and definition is preferable to the term “person owned by, controlled by, or subject to the jurisdiction or direction of a foreign adversary,” and its definition as given under 15 CFR 791.2? How might the term or definition be amended to address any drawbacks, if adoption of this term and definition is preferable? This statute defines “foreign adversary country” as “a country specified in Section 4872[(f)](2) of title 10.” We thus also seek comment on whether, instead of adopting the definition of “foreign adversary” as reflected in 15 CFR 791.2, and the list of foreign governments and foreign non-government persons as reflected in 15 CFR 791.4, we should instead adopt the definition as reflected in 10 U.S.C. 4872(f)(2), namely, “(A) the Democratic People's Republic of . . . Korea; (B) the People's Republic of China; (C) the Russian Federation; and (D) the Islamic Republic of Iran.” This list does not include the Republic of Cuba or the Maduro Regime. What are the benefits and drawbacks of adopting this definition instead of the definition and list provided in 15 CFR 791.2 and 791.4? Should either the definition of “foreign adversary country” or the list of covered countries be amended? We note that this list is limited to countries, and thus does not include natural persons or other types of entities. Do commenters support limiting our list to countries only? Should we adopt some combination of any of the definitions noted above? Should we adopt different definitions for different types of licenses? Are there any other potential definitions that we should consider using instead?

2. Types of Licenses Required To Report

We propose to adopt the certification and information collection requirements detailed in Part III.B for holders of the licenses, authorizations, and other approvals listed below (collectively, Covered Authorizations). While the Commission currently collects foreign ownership information for some of these Covered Authorizations, the Commission has never done a comprehensive survey across all Covered Authorizations, nor collected control information beyond ownership. Recognizing the importance of protecting our nation's communications networks against foreign adversaries, we tentatively conclude it is reasonable to apply the proposed requirements broadly across various licenses, authorizations, permits, and other approvals regulated by the Commission, given the Commission's interests in maximum transparency as to foreign adversary threats across every regulated segment of communications networks. We seek comment on our proposal.

(a) Wireless

Wireless. We propose to require, and seek comment on how best to receive, certification and reporting from all licensees and lessees operating under authorizations granted pursuant to parts 22 (Public Mobile Services), 24 (Personal Communications Services), 26 (Space Launch Services), 27 (Miscellaneous Wireless Communications Services), 30 (Upper Microwave Flexible Use Service), 80 (Stations in the Maritime Services), 87 (Aviation Services), 88 (Uncrewed Aircraft System Services), 90 (Private Land Mobile Radio Service), 95 (Personal Radio Services), 96 (Citizens Broadband Radio Service), 97 (Amateur Radio Service), and 101 (Fixed Microwave Services) of the Commission's rules. An individual or entity that seeks a new authorization to operate as a radio service licensee or lessee under the Commission's rules must complete and file FCC Form 601 or 605, depending on the service. This includes, with limited exceptions, authorizations under parts 22, 24, 26, 27, 30, 80, 87, 88, 90, 95, 96, 97, and 101 of the Commission's rules. These forms include basic disclosures that are designed to enforce the statutory limits on foreign ownership. Similar foreign ownership disclosures are required for prospective authorization holders on FCC Form 603 (assignments and transfers of control) and Form 608 (notification of spectrum leasing arrangement). Applicants for licenses issued through competitive bidding also file FCC Form 602, which requires the disclosure of more detailed ownership interest information. This proposal would exclude operations that are licensed by rule—that is, those permitted to operate without an individual license. General Authorized Access users in the Citizens Broadband Radio Service would also be excluded from the requirement. We seek comment on whether any operations that are licensed by rule should be required to comply.

Commercial radio operators. We propose to require, and seek comment on how best to receive, certification and reporting from commercial radio operators licensed under part 13 of the Commission's rules.

Section 310(b) Petitions for Declaratory Ruling. We propose to require, and seek comment on how best to receive, certification and reporting from entities holding section 310(b) declaratory rulings. The Commission may grant authority through a declaratory ruling to allow foreign equity or voting interests in the licensee to exceed the 25% statutory benchmarks for aggregate foreign equity and voting interests in the controlling U.S. parent of a broadcast, common carrier, aeronautical en route, and aeronautical fixed radio station licensee if the Commission finds that proposed aggregate foreign ownership would serve the public interest. Section 310(b) of the Communications Act imposes certain restrictions on who may hold various types of radio licenses and requires the Commission to review foreign investment in broadcast, common carrier, aeronautical en route, and aeronautical fixed radio station licensees. Section 310(b)(3) prohibits foreign individuals and entities from holding equity and/or voting interests of more than 20% in a U.S. broadcast, common carrier, or aeronautical radio station licensee. Section 310(b)(4) prohibits foreign individuals and entities from holding equity and/or voting interests of more than 25% in a U.S.-organized entity that directly or indirectly controls a U.S. broadcast, common carrier, or aeronautical en route or aeronautical fixed radio station licensee. With a prior Commission finding that the proposed foreign ownership is in the public interest, a foreign individual, government, or entity may hold, directly or indirectly, more than 25% (and up to 100%) of the equity and voting interests of a licensee's controlling U.S. parent. Most petitions fall under section 310(b)(4). However, in 2012, the Commission forbore from applying the foreign ownership limits in section 310(b)(3) to the class of common carrier licensees in which foreign ownership in the licensee is held through U.S.-organized entities that do not control the licensee, to the extent the Commission determines such foreign ownership is consistent with the public interest under the policies and procedures that apply to the Commission's public interest review of foreign ownership subject to section 310(b)(4) of the Communications Act. The Commission's forbearance authority does not extend to broadcast or aeronautical radio station licensees covered by section 310(b)(3), however. Section 1.5001(i) of the Commission's rules requires petitioners to submit the names of individuals and entities that hold or would hold a greater than 5% equity and/or voting interest in the controlling U.S. parent (in certain circumstances, 10%), to request specific approval from the Commission to hold these interests at these levels. Specifically, we propose requiring each entity holding a section 310(b) declaratory ruling to comply with the certification and reporting requirements. We propose that if any entity holding a section 310(b) declaratory ruling is required to report, the entity must disclose all direct or indirect foreign ownership interest holders and their equity and voting interests based on §§ 1.5000 through 1.5004 of the rules.

Antenna structure registrants. We propose to require, and seek comment on how best to receive, certification and reporting from all Antenna Structure Registration (ASR) database registrants, independent of whether a registration is required or voluntary in nature. Tower owners that register in ASR are not currently subject to ownership information disclosures (other than contact information) unless they also hold Commission licenses. Owners of antenna structures that require notice of construction to the Federal Aviation Administration (FAA) due to physical obstruction must register with the Commission under part 17 of the rules using the Commission's ASR database. In addition, some owners of antenna structures voluntarily register in ASR, even though notice of construction to the FAA is not required.

Frequency coordinators. We propose to require, and seek comment on how best to receive, certification and reporting from frequency coordination entities. The Commission certifies, qualifies, or otherwise relies on the services of various types of frequency coordination entities under parts 26 (Space Launch Services), 87 (Aviation Services), 90 (Private Land Mobile Radio Services), 95 (Personal Radio Services), 96 (Citizens Broadband Radio Service), and 101 (Fixed Microwave Services) of its rules.

(b) Satellite

Satellite networks. We propose to require, and seek comment on how best to receive, certification and reporting for satellite networks. Satellite networks are licensed based on the type of station. Satellites are licensed separately as “space stations” from ground facilities licensed as “earth stations.” The Commission currently collects information and certifications related to foreign ownership for both space stations and earth stations via FCC Form 312, the form used for facilities-based authorizations. Applicants for space station and earth station licenses must certify compliance with the foreign ownership provisions in Section 310 of the Communications Act. Space station applicants are required to disclose the officers and directors of the applicant company, along with the identity of any person or entity directly or indirectly holding 10% or greater equity or voting interest and the respective percentage held. The Commission collects the same information for both U.S.-licensed and non-U.S.-licensed satellites accessing the U.S. market by communicating with a U.S.-licensed earth station. For both space stations and earth stations, applications for assignments and transfers of control must include ownership information for the post-transfer licensee. There are no periodic ownership reporting requirements for either space station or earth station licensees, and for the vast majority of earth stations, there is no ownership information collected except as part of an application for assignment or transfer of control of the license. We seek comment on whether to modify the FCC Form 312 to include this information collection as an additional required certification for applicants and licensees, including applications for special temporary authorizations, assignments and transfers of control. We seek comment on whether there are other categories of satellite licensing actions that should similarly require a foreign adversary certification.

(c) Media

Broadcast. We propose to require, and seek comment on how best to receive, certification and reporting from broadcast licensees. Section 301 of the Communications Act prohibits broadcasting without a license from the Commission. Broadcast Regulatees include AM, FM, Low Power FM, FM Translator, FM Booster, TV, Class A TV, Low Power TV, and TV Translator stations. The Commission requires all existing broadcast licensees to submit information about foreign ownership every eight years in their renewal applications. Similarly, the Commission requires AM, FM, TV, Class A TV and Low Power TV stations to file biennial ownership reports, including information about foreign ownership. Filings of non-biennial Ownership Reports on occasion also capture station ownership but do not specifically collect foreign ownership information, as do applications for new station construction permits and applications for assignment or transfer of control of a broadcast station. The Commission also collects foreign ownership information from broadcasters that are publicly traded companies and that have a sudden change in ownership.

The Commission's existing multiple ownership rules (47 CFR 73.3555) and related caselaw provide guidance about what interests in broadcast stations are considered attributable for purposes of our multiple ownership restrictions. Should the same criteria be used to determine which foreign interests have to be disclosed concerning foreign adversaries? Several broadcasters have experienced ownership changes in recent years that involve investments from private equity funds and other complex financial structures. In other cases, broadcasters have used nonvoting stock and warrants to shield foreign ownership interests from disclosure or attribution. Should any reporting obligations concerning foreign adversaries impose different requirements than existing requirements concerning foreign ownership?

Additionally, the Commission allows broadcasters to lease all or part of their programming hours to outside parties through time brokerage or local marketing agreements as long as the licensee retains control over the station. Although parties that lease time from broadcasters are not required to disclose foreign ownership interests to the Commission, our sponsorship identification rules require disclosure to the public of foreign sponsored programming in certain situations. In particular, the Commission requires radio and television stations to broadcast a disclosure for any programming that is provided by a foreign governmental entity, as defined in the rule, and place additional information regarding the disclosures and corresponding programming in the station's Online Public Inspection File. We propose to require, and seek comment on how best to receive, additional certification and reporting about foreign adversaries that do not own or control broadcast stations but that provide programming to the public through brokering or leasing arrangements? If so, how should such disclosures be made to the Commission?

Multichannel video programming distributors. We propose to require, and seek comment on how best to receive, certification and reporting from multichannel video programming distributors (MVPDs). MVPDs make “available for purchase by subscribers or customers, multiple channels of video programming.” The Commission monitors foreign ownership of cable operators as reported annually on FCC Form 325 and in Certificate of Compliance applications. Should we require cable operators to report any foreign ownership via the Commission's Cable Operations and Licensing System? The National Defense Authorization Act for Fiscal Year 2019 (NDAA) requires certain U.S.-based foreign media outlets to submit reports every 6 months to the Commission regarding the outlets' relations to their foreign principals. How should non-cable MVPDs, such as Open Video Systems, file?

International High Frequency broadcasting authorizations. We propose to require, and seek comment on how best to receive, certification and reporting from International High Frequency (IHF) authorization holders. The Commission issues IHF authorizations to allow international high frequency broadcast stations in the United States to broadcast programing to foreign countries. An International Broadcast Station is a “broadcasting station employing frequencies allocated to the broadcasting service between 5900 and 26100 kHz, the transmissions of which are intended to be received directly by the general public in foreign countries.” International Broadcast Station authorizations are subject to the requirements in section 310 of the Communications Act. Accordingly, the underlying application forms require applicants to report any relevant foreign ownership for review by the Commission, including their citizenship and, if a corporation, whether “more than one-fifth of the capital stock of the corporation [is owned of record or voted] by aliens or their representatives or by a foreign government or representative thereof.” E.g., Form 309, Application for Authority to Construct or Make Changes in an International or Experimental Broadcast Station, Section II.

Section 325(c) permit holders. We propose to require, and seek comment on how best to receive, certification and reporting from section 325(c) permit holders. Under section 325(c) of the Communications Act, the transmission of programming from the United States to radio stations across the border for broadcast into the United States requires Commission authorization through grant of a permit. The Commission authorizes a permit holder to deliver programs to foreign broadcast stations with the intent that the programs will be broadcasted into the United States pursuant to section 325(c) when it finds that doing so is in the public interest.

(d) Submarine Cables

Submarine cable landing licenses. We propose to require, and seek comment on how best to receive, certification and reporting from submarine cable landing licensees. Under the Cable Landing License Act and Executive Order 10530, the Commission has authority to grant, withhold, revoke, or condition submarine cable landing licenses for cables that land in the United States. Section 1.767 of the Commission's rules sets forth the framework for the Commission's consideration of applications for cable landing licenses. The Commission also authorizes assignments, transfers of control, modifications, requests for special temporary authority, and renewals or extensions of cable landing licenses. Applicants for a submarine cable landing license must submit the information required in § 63.18(h) of the Commission's rules, including identification of “[t]he name, address, citizenship, and principal businesses of any individual or entity that directly or indirectly owns ten percent or more of the equity interests and/or voting interests, or a controlling interest, of the applicant, and the percentage of equity and/or voting interest owned by each of those entities (to the nearest one percent).” The Commission receives updated information about changes in the ownership of licensees of the submarine cable system when (1) an applicant/licensee seeks Commission consent to the substantial transfer of control and/or assignment or modification of its existing cable landing license, (2) a licensee undergoes a pro forma transfer of control and/or assignment that require(s) notification to the Commission, (3) a licensee files a foreign carrier affiliation notification, or (4) an applicant/licensee files a renewal application. Applicants seeking streamlined processing must certify, among other things, that “all ten percent or greater direct or indirect equity and/or voting interests, or a controlling interest, in the applicant are U.S. citizens or entities organized in the United States.” All applicants must send a complete copy of the application to the State Department, National Telecommunications and Information Administration, and Defense Information Systems Agency. With certain exceptions, the Commission generally will refer to the Committee for the Assessment of Foreign Participation in the United States Telecommunications Services Sector (the Committee) applications filed for a submarine cable landing license and applications to assign, transfer control of, or modify such license, among other things, where the applicant has reportable foreign ownership.

(e) Telephone and Common Carrier

Domestic section 214. We propose to require, and seek comment on how best to receive, certification and reporting from carriers providing domestic telecommunications service pursuant to section 214 authority. Section 214(a) of the Communications Act prohibits any carrier from constructing, acquiring, or operating any line, and from engaging in transmission through any such line, without first obtaining a certificate from the Commission “that the present or future public convenience and necessity require or will require the construction, or operation, or construction and operation, of such . . . line . . . .” In 1999, the Commission granted all telecommunications carriers blanket authority under section 214 to provide domestic interstate services and to construct or operate any domestic transmission line. No application, and thus no ownership information, need be provided to begin operating pursuant to this blanket authority. However, any domestic carrier that seeks to transfer control of lines, assets, or authorization to operate pursuant to section 214 must obtain prior Commission approval before the authorization holder consummates a transaction. The Commission requires domestic section 214 applicants to disclose the name, address, citizenship, and principal business of any person or entity that directly or indirectly owns 10% or more of the equity interests and/or voting interests, or a controlling interest, of the applicant.

In the absence of any type of ready list of designated authorization or license numbers for domestic carriers operating in the United States pursuant to blanket section 214 authority, we also seek comment on the best method for the Commission to identify these carriers for purposes of ensuring compliance with the requirements we propose today. We propose that a primary and effective source for this information is the existing registration requirement for interstate telecommunications providers that is associated with the FCC Form 499-A. Section 64.1195 of the Commission's rules directs a telecommunications carrier that will provide interstate telecommunications service to file certain registration information on FCC Form 499-A, and that any telecommunications carrier already providing interstate telecommunications service must do the same. A telecommunications carrier that is subject to the registration requirement in paragraph (a) of the rule must provide (1) the carrier's business name and primary address; (2) the names and business addresses of the carrier's chief executive officer, chairperson, and president, or, in the event that a company does not have such executives, three similarly senior-level officials of the company; (3) the carrier's regulatory contact and/or designated agent; (4) all the names the carrier has used in the past; and (5) the states in which the carrier provides telecommunications service. Would this registration information accurately and reliably identify the domestic section 214 authorization holders that could be subject to Foreign Adversary Control? Would this provide information about domestic carriers that are actively providing service and have not gone out of business? Are there alternative sources of information identifying domestic carriers other than the registration information for the FCC Form 499-A?

Eligible Telecommunications Carriers. We seek comment on whether to require certification and reporting from Eligible Telecommunications Carriers (ETCs). Should ETC designations be included as a Covered Authorization? Would an ETC qualify as a Regulatee only if the Commission is the designating authority under section 214(e)(6), or would ETC designations granted pursuant to a state's primary jurisdiction also subject to the Regulatee requirements? Section 214(e) grants to the states primary jurisdiction for ETC designations and relinquishments, but where a state does not have jurisdiction over a carrier, the Commission is able to designate ETCs under section 214(e)(6). However, all ETCs are subject to federal Universal Service Fund rules enacted by the Commission.

International section 214. We propose to require, and seek comment on how best to receive, certification and reporting from international section 214 authorization holders. The Commission's current rules require that any person or entity that seeks to provide U.S.-international common carrier telecommunications service must obtain prior Commission approval pursuant to section 214 of the Communications Act, as amended, by filing with the Commission an application for international section 214 authority that contains information required by § 63.18 of the Commission's rules. Applicants for international section 214 authority must submit the information required in § 63.18(h) of the Commission's rules, including identification of the “name, address, citizenship, and principal businesses of any individual or entity that directly or indirectly owns ten percent or more of the equity interests and/or voting interests, or a controlling interest, of the applicant, and the percentage of equity and/or voting interest owned by each of those entities (to the nearest one percent).” The Commission receives updated information about changes in the ownership of international section 214 authorization holders when (1) an applicant/authorization holder seeks Commission consent to the substantial transfer of control and/or assignment or modification of its international section 214 authorization, (2) an authorization holder undergoes a pro forma transfer of control and/or assignment that require(s) notification to the Commission, or (3) an authorization holder files a foreign carrier affiliation notification. Applicants seeking an assignment or transfer of control of an international section 214 authorization are also subject to the ownership disclosure requirement in § 63.18(h) pursuant to § 63.24 of the Commission's rules. With certain exceptions, the Commission generally will refer to the Committee applications filed for an international section 214 authorization and applications to assign, transfer control of, or modify such authorization, among other things, where the applicant has reportable foreign ownership.

VoIP direct access. We propose to require, and seek comment on how best to receive, certification and reporting from Voice over Internet Protocol (VoIP) direct access to numbers authorization holders. Adopted in 2015 and updated in 2023, the direct access authorization enables qualifying interconnected VoIP providers to obtain numbering resources directly from the North American Numbering Plan Administrator on a nationwide basis. The Commission's rules require interconnected VoIP providers seeking to obtain numbering resources to comply with both the requirements applicable to telecommunications carriers seeking to obtain numbering resources and certain interconnected VoIP-specific requirements for applying for, and maintaining, a Commission authorization for direct access to numbering resources, including providing certifications related to an applicant's technical, managerial, and financial capacity to provide service and comply with multiple Commission requirements. Applicants for interconnected VoIP provider numbering authorization must submit the same ownership information required of applicants for international section 214 authority. We seek comment on whether there are any specific reasons that interconnected VoIP providers could not meet the foreign adversary requirements we propose today.

(f) Other

FCC auction applicants. We propose to require, and seek comment on how best to receive, certification and reporting from parties applying to participate in an FCC auction. The Commission uses auctions for the purpose of assigning spectrum licenses, broadcast construction permits, and universal service support. Auction proceedings, including application procedures, are governed by the competitive bidding rules as described in subparts Q and AA of the part 1 rules, which generally require, among other things, an auction applicant's disclosure under penalty of perjury of 10% or more ownership interests. The Commission's competitive bidding rules require that an applicant to participate in competitive bidding fully disclose in their application: the real party or parties in interest in the applicant or application, including a complete disclosure of the identity and relationship of those persons or entities directly or indirectly owning or controlling (or both) the applicant; the name, address, and citizenship of any party holding 10% or more of stock in the applicant, whether voting or nonvoting, common or preferred, including the specific amount of the interest or percentage held; in the case of a limited partnership, the name, address and citizenship of each limited partner whose interest in the applicant is 10% or greater (as calculated according to the percentage of equity paid in or the percentage of distribution of profits and losses); in the case of a general partnership, the name, address and citizenship of each partner, and the share or interest participation in the partnership; in the case of a limited liability company, the name, address, and citizenship of each of its members whose interest in the applicant is 10% or greater; and all parties holding indirect ownership interests in the applicant as determined by successive multiplication of the ownership percentages for each link in the vertical ownership chain, that equals 10% or more of the applicant, except that if the ownership percentage for an interest in any link in the chain exceeds 50% or represents actual control, it shall be treated and reported as if it were a 100% interest.

Equipment certifications. We propose to require, and seek comment on how best to receive, certification and reporting from applicants for certification in the Commission's equipment authorization program. Under section 302 of the Communications Act, as amended, no device that emits radiofrequency (RF) energy and can cause harmful interference to radio communications may be imported, marketed, or sold that does not comply with Commission regulations. Under Commission regulations, an RF device must be authorized through the equipment authorization program before it may be imported, marketed, or sold in the United States. Certification, the most rigorous equipment authorization procedure, is required for RF equipment considered to have the highest risk of interference. Such certifications are granted by third party Telecommunications Certification Bodies, under the Office of Engineering and Technology's oversight. In addition to certification, a device may be authorized under a Supplier's Declaration of Conformity, or it may be exempt and therefore authorized under such exemption.

Data Network Identification Codes. We propose to require, and seek comment on how best to receive, certification from Data Network Identification Code (DNIC) holders. The Commission assigns DNICs under International Telecommunication Union ITU-T Recommendation X.121. The DNIC is the central device of the international data numbering plan developed by the International Telecommunication Union (ITU) and is intended to identify and permit automated switching of data traffic to particular networks. DNICs are unique numerical codes designed to provide discrete identification of individual public data networks.

International Signaling Point Codes. We propose to require, and seek comment on how best to receive, certification from International Signaling Point Code (ISPC) holders. The Commission, as the Administrator for the United States, assigns ISPCs for Signaling System No. 7 networks under International Telecommunication Union ITU-T Recommendation Q.708. ISPCs are used at the international level for signaling message routing and identification of signaling points involved.

Recognized Operating Agencies. We propose to require, and seek comment on how best to receive, certification from Recognized Operating Agencies. Any party requesting designation as a recognized operating agency within the meaning of the International Telecommunication Convention must file a request for such designation with the Commission. Pursuant to § 63.701 of the rules, the Commission sends a letter to the Department of State recommending grant or denial of recognized operating agency status. Any party requesting designation as a recognized operating agency within the meaning of the International Telecommunication Convention must submit an application that contains information required by § 63.701 of the rules, including “[a] statement of the ownership of a non-corporate applicant, or the ownership of the stock of a corporate applicant, including an indication whether the applicant or its stock is owned directly or indirectly by an alien. Recognized operating agencies may participate in the ITU.

Telecommunications Relay Services. We propose to require, and seek comment on how best to receive, certification and reporting from internet-based Telecommunications Relay Services (TRS) certification holders. Section 225 of the Communications Act requires the Commission to establish regulations to ensure that TRS are available to individuals who are deaf, hard of hearing, or deafblind or have speech disabilities, “to the extent possible and in the most efficient manner.” TRS are “telephone transmission services that provide the ability for an individual who is deaf, hard of hearing, deaf-blind, or who has a speech disability to engage in communication by wire or radio . . . in a manner that is functionally equivalent to the ability of a hearing individual who does not have a speech disability to communicate using voice communication services by wire or radio.” The Commission certifies applicants to be providers of internet-based forms of TRS. In an application for certification to provide internet-based TRS, applicants must include a list of individuals or entities that hold at least a 10% equity interest in the applicant, have the power to vote 10% or more of the securities of the applicant, or exercise de jure or de facto control over the applicant.

Additional license and authorization types. We seek comment on whether this list is appropriately comprehensive or whether we should include any additional licenses or authorizations. Are there any technologies or specific types of licenses or authorizations on which imposing certification and information collection requirements is unnecessary and, if so, why? We ask commenters to provide information that would allow the Commission to weigh the national security benefits against the burdens on the Regulatee.

Duplicative reporting requirements. To the extent an entity falls into multiple categories, how should duplicative reporting be handled? Are there ways we can reduce duplicative reporting requirements, and if so, should we take such steps? For example, would the possibility of duplicative reporting requirements be eliminated if the Commission were to adopt a cross-system rule and a single system for reporting?

B. Certification and Information Collection Requirements

To further our understanding of threats from foreign adversaries to U.S. communications networks, we propose to adopt new certification and information collection requirements for the Regulatees described herein. As a general matter, we propose that an officer or other responsible party on behalf of the entity holding each Covered Authorization (i.e., each Regulatee) submit a certification to the Commission that it is or is not owned by, controlled by, or subject to the jurisdiction or direction of a foreign adversary (collectively, Foreign Adversary Control).

A Regulatee that certifies it is owned by, controlled by, or subject to the jurisdiction or direction of a foreign adversary would then be required to disclose all 5% or greater direct or indirect ownership interests to the Commission, as well as make several other disclosures. We think that this proposed approach of requiring due diligence and certification, with reporting in limited instances, will provide the Commission with necessary information, while not unduly burdening Regulatees without reportable Foreign Adversary Control.

More specifically, we propose to require each Regulatee to affirmatively certify that it is or is not directly or indirectly owned by, controlled by, or subject to the jurisdiction or direction of a foreign adversary, and submit information consistent with the categories below.

(1) Reportable Foreign Adversary Control. A Regulatee that certifies it is owned by, controlled by, or subject to the jurisdiction or direction of a foreign adversary, must:

a. identify its 5% or greater direct or indirect equity and/or voting interest holders, specifically—

i. for each reported natural person interest holder of a direct or indirect interest of 5% or greater, disclose the country of citizenship, whether such persons have dual or more citizenships, and identify all countries of which citizenship is held; and

ii. for each reported business organization interest holder of a direct or indirect interest of 5% or greater, disclose the country under the laws of which the business is organized and the country of the principal place of business, headquarters, or place of incorporation/organization;

b. identify which foreign adversary the Regulatee is owned by, controlled by, or subject to the jurisdiction or direction of;

c. describe the nature of the foreign adversary ownership, control, jurisdiction, or direction to which the Regulatee is subject; and

d. certify to the truth and accuracy all information.

(2) No Reportable Foreign Adversary Control. A Regulatee that affirmatively certifies it is not directly or indirectly owned by, controlled by, or subject to the jurisdiction or direction of a foreign adversary must certify to the truth and accuracy of this information.

We tentatively conclude that limiting these requirements to foreign adversary control, as opposed to foreign control more broadly, and limiting the reporting obligations to Regulatees that have reportable Foreign Adversary Control will minimize the compliance burden on Regulatees. We seek comment on these proposed categories and the associated information required with each category. Would this approach provide the Commission with necessary information to protect against foreign adversary threats without unduly burdening Regulatees? To what extent, if at all, does this duplicate existing requirements and how can the Commission minimize any associated burdens? Is it reasonable for the Commission to expect Regulatees to know if they are owned by, controlled by, or subject to the jurisdiction or direction of a foreign adversary, or should the Commission offer another option for a Regulatee that is unsure whether to certify that it has reportable Foreign Adversary Control? How should such a third option be structured and what information should be required?

We propose to make the certifications and information collected available to the public, and seek comment on our proposal. Should we publish all information or only a subset of the information collected? If we were to publish a subset, how should we determine what to publish?

Should we require additional information from Regulatees with reportable Foreign Adversary Control? Is there additional information that could be useful in explaining direction or control? Should we seek information on the extent of the Regulatee's interactions with a foreign adversary government, foreign adversary government officials, or officials of the foreign adversary country's dominant political party? Should we incorporate any or all of the Standard Questions required of certain applicants and petitioners with reportable foreign ownership as part of the Executive Branch review process, such as the questions regarding activities of Corporate Officers, Senior Officers, or Directors? Should we also require reporting on the nature of the Regulatee's activities in the United States and its interactions with our communications networks, including the products and services it provides or offers, and the contracts it has with American entities? We seek comment on whether to require such information and the administrative burdens compared to the national security benefits.

We next seek comment on our proposed 5% or greater direct or indirect equity and/or voting interest threshold. We think that a 5% ownership interest is reasonable given that our proposed information collection is limited to Regulatees with reportable Foreign Adversary Control and because a higher threshold may not capture national security risks presented by foreign ownership, particularly when there is Foreign Adversary Control. This threshold is consistent with recent Commission action in the Evolving Risks NPRM which sought comment on revising the ownership reporting threshold for international section 214 applications to 5% and the Equipment Authorization Integrity Order which requires all telecommunications certification bodies, measurement facilities, and laboratory accreditation bodies to report all equity or voting interests of 5% or greater and finds that such a threshold balances national security interests while minimizing administrative burden. Does 5% appropriately balance the national security interest and administrative burden in the context of this information collection? Are there reasons another threshold would be appropriate and, if so, why? We seek comment on our proposal.

We seek comment on what actions the Commission should take, if any, with regard to Regulatees with reportable Foreign Adversary Control. Should the Commission subject such Regulatees to greater regulatory scrutiny? Should the Commission impose additional reporting requirements for Regulatees with reportable Foreign Adversary Control and if so, what information should be required? We seek comment on whether the information required should vary by license, authorization, permit, or other approval type. Pursuant to Executive Order 13913 and Commission rules, the Commission refers applications with reportable foreign ownership interests to the Committee. For over 25 years, the Commission has referred certain applications that have reportable foreign ownership to the Department of Defense (DOD), Department of Homeland Security (DHS), Department of Justice (DOJ), Department of State, Office of the U.S. Trade Representative (USTR), and Department of Commerce's National Telecommunications & Information Administration (NTIA). DOJ, DHS, and DOD also are known informally as “Team Telecom.” In addition, the Committee periodically reviews existing licenses and authorizations “to identify any additional or new risks to national security or law enforcement interests of the United States.” The Commission, in its discretion, may refer applications, petitions, and other filings to the Executive Branch for review for national security, law enforcement, foreign policy, and/or trade policy concerns. The Commission will generally refer to the Executive Branch applications filed for an international section 214 authorization and submarine cable landing license as well as an application to assign, transfer control of, or modify those authorizations and licenses where the applicant has reportable foreign ownership and petitions for section 310(b) foreign ownership rulings for broadcast, common carrier wireless, and common carrier satellite earth station licenses pursuant to §§ 1.767, 63.18, 63.24, and 1.5000 through 1.5004 of the rules. Should Regulatees with reportable Foreign Adversary Control be referred to the Committee for assessment of national security and law enforcement concerns? Should the Commission initiate proceedings to revoke such the license of such a Regulatee or some subset of Regulatees or, in some cases, automatically revoke such licenses? We seek comment on which actions, if any, should be taken, when any action should be taken, and under what circumstances.

Other approaches. In the alternative, we seek comment on whether we should limit the certification requirement to Regulatees with reportable Foreign Adversary Control. Under such an approach, a Regulatee with no reportable Foreign Adversary Control would not be required to make a certification to the Commission. What are the benefits and limitations of such an approach? We seek comment on whether limiting the certification requirement in this way would impede the value of the information for national security purposes. Would requiring a certification from all Regulatees, instead of just those with reportable Foreign Adversary Control, decrease the likelihood of a Regulatee's failure to identify and report Foreign Adversary Control? Would limiting the reporting and certification requirement to those entities with Foreign Adversary Control create a large pool of non-filers and present administrative burdens associated with identifying whether any non-filers have unreported foreign adversary ownership? Conversely, what would be the benefits and burdens of requiring disclosure of foreign ownership information for all Regulatees regardless of whether the reportable Foreign Adversary Control threshold is met? To what extent would such a reporting requirement duplicate existing requirements, such as ownership disclosures required in applications, and how could the Commission minimize any associated burdens? We seek comment on these and other alternative approaches.

Exemptions. We seek comment on whether there are circumstances where it would be appropriate to adopt an exemption from submitting the proposed foreign adversary reporting requirement. For example, the Commission required identification of foreign adversary ownership interests in the one-time information collection for international section 214 authorization holders but allowed an exemption for authorization holders whose applications were granted within three years prior to the filing deadline, among other conditions. Should authorization holders that timely and accurately responded to that collection be exempt from the certification and information collection we propose here on the grounds that such reporting may be duplicative? Should the Commission adopt an exemption or streamlined requirement for applicants and holders of any license, authorization, or other approval identified herein, where such entity or individual filed with the Commission an application or other filing required by the rules within a certain timeframe prior to the reporting deadline to the extent it contains the certification and ownership information proposed in this document Notice? We seek comment on whether there are other examples where collection of this information may be duplicative. Are there other grounds we should consider for possible exemption? We ask commenters to identify and detail the type of license, authorization, or other approval, and justification for any exemption.

Applicability. We propose to require that an officer or other responsible party, as an agent of each Regulatee in the existing base of holders of Covered Authorizations sign and file with the Commission an initial certification, and complete a new certification within 30 days of the Regulatee (a) becoming owned by, controlled by, or subject to the jurisdiction or direction of a foreign adversary or (b) for Regulatee with reportable Foreign Adversary Control, when a new entity acquires 5% or greater direct or indirect interest. Going forward, we seek comment on whether we should require an annual certification on a date certain to ensure the Commission maintains accurate information. Alternatively, would the proposed requirement for Regulatees to notify the Commission of changes within 30 days adequately ensure the Commission has the most accurate information while minimizing additional filing burdens associated with an annual requirement? We also propose to require all future applicants for all new licenses, assignments, transfers of control, modifications, renewals, requests for special temporary authority, etc. of Covered Authorizations to complete the certification and, if necessary, reporting. We seek comment on this proposal. In the alternative, should we limit the applicability to existing Regulatees (i.e., conduct a one-time collection)? To what extent and for what duration would the information obtained from a one-time collection be useful? Conversely, are there benefits that could only be achieved from a recurring (e.g., annual) collection? Are there other approaches we should consider?

We also seek comment on whether Regulatees should be required to complete a new one-time certification if any entities are added to or removed from the foreign adversary list in 15 CFR 791.4, and if so, what is a reasonable time frame to require such a certification after any changes to the list of foreign adversaries? What factors should we consider, particularly with respect to the national security environment and the burden on Regulatees? Do these considerations weigh in favor of a particular approach?

Due diligence. We seek comment on what level of effort would be required of any due diligence efforts. Should an interest holder's failure or unwillingness to respond affect a Regulatee's certification and information submission and, if so, how? Should we require Regulatees to provide information on their due diligence efforts in the event information for all interest holders is not available? We seek comment on what due diligence we should expect publicly traded companies to undertake. Given that some publicly traded companies may not be aware of certain ownership information until a filing with the Securities and Exchange Commission is required, which may occur outside our proposed 30-day window, we seek comment on whether we should adopt a different due diligence expectation or reporting timeframe for publicly traded companies.

C. Implementation Considerations

Rule updates. We seek comment on whether the certification and information collection requirements should be incorporated into existing licensing rules for applications, transfers, and assignments (i.e., updating the language of 47 CFR 1.2112(b)(2), 63.04(a)(4), 63.18(h), and other rules individually) or whether we should create a single set of new rules that apply to all Regulatees with Covered Authorizations. What are the benefits and drawbacks to each approach? Are there implementation considerations that weigh in favor of either approach, including our proposal below to use a single system for collecting information? Should we consider any other approaches to modifying our rules?

Method for collection. We propose to collect the certification and foreign ownership data electronically through a single, consolidated system for all Regulatees with a Covered Authorization. Our proposal to create a single, consolidated system for collection of this new information is not intended to replace existing systems or license-, authorization-, permit-, or application-specific disclosure requirements. Such an approach would streamline data management and would allow for consistent comparison across the Commission's Regulatees. Additionally, this method would allow entities and individuals to enter their Foreign Adversary Control information once covering all of their existing Covered Authorizations, rather than potentially being required to enter it multiple times in each licensing system or linking across disparate systems. This proposal could also offer a collection method for entities such as blanket domestic section 214 authorization and VoIP direct access authorization holders for which the Commission does not have a licensing system. We seek comment on this proposal. Are there other benefits or drawbacks we should consider?

We also seek comment on whether the Commission should develop a new system to ingest and streamline this certification and reporting process or use an existing system, like the Commission Registration System (CORES). To the extent required, the Commission will ensure that any system is covered by a Privacy Act system of records notice (SORN) to account for, among other things, the collection of new information types or new disclosures as discussed throughout this document, whether it is a new system requiring creation of a new SORN, or an existing system requiring modification of an extant SORN. Such entities would need to obtain an FRN prior to submitting a certification in CORES. We seek comment on the burden for such entities. We also seek comment on whether there is any other registration information necessary for implementing this information collection. Are there other existing systems that would be appropriate for all Regulatees to use? How can we ensure Regulatees are already registered in CORES adhere to the new certification requirements when applying for a license in the existing licensing system? We note that many licenses were granted to entities prior to the Commission requiring an FCC Registration Number (FRN) in 2001. Such entities would need to obtain an FRN prior to submitting a certification in CORES. We seek comment on the burden for such entities. We also seek comment on whether there is any other registration information necessary for implementing this information collection. We seek comment on what impact, if any, use of CORES as a method for collection would have on the comprehensiveness of the information.

Alternatively, should we use the existing licensing systems to collect this information? To what extent would existing Commission licensing systems need to be modified to collect the certification and Foreign Adversary Control information? Would the necessary modifications vary depending on the system? For example, should additional questions be added to the applications or forms referenced above? How should we ensure that all of the data collected can be combined and aggregated across the different licensing systems? Should we ensure any data collection is provided electronically, which will allow us to combine and publish the data more easily? We seek comment on alternative approaches to collecting this information and the benefits and drawbacks of each approach.

Deadline. We propose to require Regulatees to complete the certification and information collection, as applicable, within a 60-day window from the effective date of the information collection based on Foreign Adversary Control information as of 30 days prior to the filing deadline. In the Evolving Risks proceeding, the Commission directed OIA to publish notice of the effective date of the information collection requirement and the filing deadline in the Federal Register and specified that the deadline for filing responses should be no fewer than 30 days following the effective date of the Order. Does 60 days provide adequate time for Regulatees to complete due diligence and comply with the reporting requirements? Alternatively, should Regulatees provide the most current Foreign Adversary Control information at the time of submission? Does either approach fit better with our proposal to require Regulatees to complete a new certification and information collection based on changes? If we adopt our proposal to collect this information in a single, consolidated system, should we establish a single deadline for compliance? What are the advantages and disadvantages to a single deadline? If we were to use existing licensing systems, should we adopt a single deadline or should the deadlines be set separately for each licensing system? We seek comment on our proposal and associated implementation considerations.

Enforcement and revocation. Except as otherwise authorized by the Communications Act we propose to adopt a streamlined revocation procedure for Regulatees with Covered Authorizations similar to the procedure for withdrawing recognition from TCBs and test firms. We note that the Commission has previously adopted or utilized revocation procedures in the context of interconnected VoIP direct access to numbering resources authorizations and international section 214 authorizations. Consistent with this approach, for any instance in which the Commission has a reasonable basis for determining that a Regulatee has made a false certification of no Foreign Adversary Control or fails to timely, accurately, or completely respond to the certification and information collection requirements adopted in this proceeding, we propose to issue a letter to the Regulatee notifying it of the Commission's intent to revoke its Covered Authorization. We tentatively conclude that these deficiencies would present unacceptable national security risks by compromising our ability to identify and address foreign adversary ownership of Regulatees. The letter would request explanation or correction of any apparent deficiencies, and to show cause that the Covered Authorization should not be revoked, within 30 days after the date of correspondence. If the Regulatee fails to timely reply, to adequately explain or correct any deficiencies, and to show cause, we propose that the Commission revoke the Covered Authorization of the Regulatee. We seek comment on this proposal. Are further adjustments to the procedures necessary depending on the Covered Authorization? Does 30 days provide adequate notice to Regulatees? Should the procedures differ for Regulatees that may no longer exist or where the Commission's contact information may be outdated? Should such revocations require Commission-level action, or should we delegate such authority to the Enforcement and Public Safety and Homeland Security Bureaus?

Alternatively, should we apply the procedures to revoke any authorization, license, or other grant of authority on grounds of failure to comply with the certification and information collection requirements proposed in this document on a case-by-case basis and only upon finding that the failure is “willful” or presents national security or other concerns warranting streamlined treatment, and consistent with due process and Commission precedent as appropriate?

In the alternative, we seek comment on what actions the Commission should take, if any, when a Regulatee makes a false certification or fails to timely, accurately, or completely respond to the certification and information collection requirements proposed in this document. Should the Commission initiate a further inquiry to assess the concerns raised by any such situation that may, in turn, result in Commission enforcement action? If, upon the conclusion of the inquiry, the Commission finds that a violation of our rules has occurred, should the Commission impose forfeitures and/or initiate a proceeding to revoke the licenses held by the Regulatee? If we should adopt revocation as an enforcement mechanism instead of, or in addition to, forfeitures, what process should we adopt for revocations not involving Title III licenses? What notice should be afforded to Regulatees, especially in light of the fact that some authorizations (e.g., device certifications) do not have fixed terms and such the Regulatees may no longer exist or the Commission's contact information may be outdated? Should such Regulatees be referred to the Committee, the Enforcement Bureau, or the Office of the Inspector General? Should we account for variation in the type (e.g., individual, corporation, school, Tribal government) or sophistication of Regulatees and, if so, how? For those approvals from the Commission that can be reclaimed, such as DNICs and/or ISPCs, if the holder fails to respond to the information collection in a timely, accurate, or complete manner, should we reclaim those approvals and impose forfeitures or other measures?

Privacy concerns. We seek comment on whether our proposals implicate any privacy concerns, and if so, how they should be addressed. As discussed previously, we propose to publish the certification and information submitted by Regulatees. Should we withhold from public view, automatically or upon request, any information collected as a result of our proposed rules based on privacy concerns? If so, what information or types of information specifically should we withhold? Should we withhold name, or current full or partial address, for example? Does the need to withhold information depend on the type of entity holding the license (e.g., individual versus corporation)? We note that such concerns must be balanced against the public interest in protecting and enhancing national security. What, if any, impact would withholding certain information from the public have on the public interest, and specifically, on national security?

D. Cost-Benefit Considerations

Benefits. The Commission previously has found that “a foreign adversary's access to American communications networks could result in hostile actions to disrupt and surveil our communications networks, impacting our nation's economy generally and online commerce specifically, and result in the breach of confidential data.” Given that our national gross domestic product was over $29 trillion in 2024, the digital economy accounted for approximately 16% of the U.S. economy, and the volume of international trade for the United States (exports and imports) was $5.4 trillion in 2024, even a temporary disruption in communications could cause billions of dollars in economic losses. Thus, the benefits gained from deterring foreign adversaries or other untrustworthy actors and preventing disruption to the U.S. economy and critical communications infrastructure could be significant. Additional benefits include preventing the possible loss of confidential data, including the interception of sensitive governmental information, and the undermining of public safety.

Requiring Regulatees to report ownership and control by foreign adversaries can mitigate vulnerabilities in the telecommunications infrastructure and strengthen national security by identifying potential threats. Significant benefits include improved recognition, assessment and mitigation of evolving national security risks, which can better protect U.S. telecommunications infrastructure and the valuable economic activity transiting it. We seek comment on these and any other benefits in the context of our proposed certification and information collection requirements. To what extent will identifying entities holding licenses and authorizations that are owned by, controlled by, or subject to the direction of a foreign adversary help mitigate threats to our communications networks? What other benefits will this additional transparency in Foreign Adversary Control convey?

Costs. Collecting information on Regulatees owned by, controlled by, or subject to the jurisdiction or direction of a foreign adversary is unlikely to impose significant reporting costs for several reasons. First, many Regulatees are already subject to the Commission's existing foreign ownership reporting requirements. Second, a privately held company likely knows the investors or stakeholders that hold interests of 10% or greater or exert significant control over its business directives, while a publicly held company is required to identify its interest holders in requisite filings with the U.S. Securities and Exchange Commission. Third, for those Regulatees not currently reporting foreign ownership nor aware of their ownership interests, Commission staff estimate a one-time foreign adversary ownership reporting cost of $116 per Regulatee. We seek comment on our estimated costs and whether adopting our proposed rules would impose costs that extend beyond administrative expenses.

While it would be impossible to quantify the precise monetary value of safeguarding telecommunications infrastructure and national security, we tentatively conclude that the benefits from the proposed rules will significantly outweigh the costs of the reporting requirements, which will likely be minimal. We seek comment on this tentative conclusion and encourage commenters to provide any data that could speak to the benefits and costs of our proposed rules.

E. Legal Authority

We believe we have legal authority to apply the certification and information collection requirements discussed herein to entities holding every type of license, permit, or authorization issued by the Commission. The Communications Act created the Commission for, among other things, “the purpose of the national defense, [and] for the purpose of promoting safety of life and property through the use of wire and radio communications.” The Communications Act also directs the Commission to seek to promote the “maximum effectiveness from the use of radio and wire communications in connection with safety of life and property” by “investigat[ing] and study[ing] all phases of the problem and the best methods of obtaining the cooperation and coordination of these [communications] systems.” We have long recognized that promotion of national security and public safety is an integral part of the Commission's public interest responsibility and that these purposes must be pursued through the exercise of the specific authorities. In doing so, we act pursuant to various provisions of the Communications Act and, where relevant, other Acts granting the Commission authority with respect to interstate and foreign commerce in wire and radio communication.

Various statutory provisions grant the Commission jurisdiction over various types of licenses, authorizations, and services. We believe that this jurisdiction includes authority, and a responsibility, to promote national security by collecting information about foreign adversary ownership and control. Provisions that vest the Commission with oversight over various services include sections 301, 302, 303, 304, 307, 308, 309, 310, 312, 316, 319, 332, 336, and 337 of the Communications Act, and sections 6001-6004, 6101-6102, 6201-6213, 6301-6303, 6401-6413, and 6502-6507 of the Middle Class Tax Relief and Job Creation Act of 2012 (wireless licenses); section 303 of the Communications Act (commercial radio operators licensed under part 13 of the Commission's rules); sections 301 and 303 of the Communications Act (antenna structure registrants); sections 301, 303, 307, and 332(c)(7) of the Communications Act, and sections 6001-6004, 6101-6102, 6201-6213, 6301-6303, 6401-6413, and 6502-6507 of the Middle Class Tax Relief and Job Creation Act of 2012 (frequency coordinators); sections 301, 303, 308, 309, 310, 316, and 319 of the Communications Act, and section 601 of the Communications Satellite Act of 1961 (satellite licensing); sections 301, 303, 307, 308, 309, 310, 316, and 319 of the Communications Act (broadcast licenses); sections 301, 303, 308, 309, 310, 316, 325, and 335 of the Communications Act (MVPDs)—cable operators often hold radio licenses in the Cable Antenna Relay Service and in the private radio services, which are “station licenses” as that term is defined in the Communications Act; section 653 of the Communications Act (open video systems); sections 301, 303, 307, 308, 309, 310, and 316 of the Communications Act (IHF broadcasters); sections 309, 316, and 325(c)-(d) of the Communications Act (rebroadcasting programming from a foreign radio station into the United States); the Cable Landing License Act of 1921, 47 U.S.C. 34-39, and section 5(a) of Executive Order 10530 (submarine cable landing licenses); sections 201, 214, and 218-220 of the Communications Act (domestic and international common carrier authorizations including commercial mobile radio service carriers); section 251(e)(1) of the Communications Act (interconnected VoIP direct access authorizations); section 302a of the Communications Act (equipment authorizations); sections 201-205, 211, 214, and 218-220 of the Communications Act (DNICs); sections 201-205, 211, 214, and 218-220 of the Communications Act (ISPCs); sections 201-205, 211, 214, 218-220, and 303(r) of the Communications Act (recognized operating agencies); section 225 of the Communications Act (TRS); and sections 254, 308, and 309(j)(5) of the Communications Act (auction participants).

Requesting certifications and information related to matters within the Commission's jurisdiction is also an exercise of section 403 of the Communications Act, pursuant to which the Commission has “full authority and power at any time to institute an inquiry, on its own motion, in any case and as to any matter or thing concerning which complaint is authorized to be made, to or before the Commission by any provision of this chapter, or concerning which any question may arise under any of the provisions of this chapter, or relating to the enforcement of any of the provisions of this chapter.” Collecting this information will help the Commission fulfill its various licensing and authorizing functions consistent with the purpose of promoting national security and public safety.

Do commenters agree that these statutory provisions provide sufficient authority to adopt our proposals? What other provisions may provide direct authority for these proposals?

We elaborate on some of these authorities below and seek comment on our preliminary analysis and any different or additional sources of authority on which we might rely. Any commenter that believes the Commission lacks authority to impose such requirements on a particular category of Regulatee should point out specifically how the Commission's statutory authorities fail to reach that category.

1. Title II of the Communications Act

We tentatively conclude that Title II of the Communications Act provides us with the authority to apply the proposed certification and disclosure requirements to many of the Regulatees addressed herein. In particular, section 201(b) requires common carriers' charges and practices for and in connection with their interstate and international common carrier services to be just and reasonable. Section 201(b) further provides that “[t]he Commission may prescribe such rules and regulations as may be necessary in the public interest to carry out the provisions of this chapter.” In the instant case, our application of the “just and reasonable” and “public interest” standards is informed in part by the Commission's national defense and public safety obligations under Title I and other provisions of the Communications Act. We seek comment on our tentative conclusion that the rules contemplated by this document will advance these statutory objectives, informing our application of Title II standards in evaluating what is “just and reasonable” and in the “public interest.”

Section 214 of the Communications Act also provides direct authority to adopt our proposals. Section 214(a) of the Communications Act prohibits any carrier from constructing, acquiring, or operating any line, and from engaging in transmission over or by means of any such line, without first obtaining a certificate from the Commission “that the present or future public convenience and necessity require or will require the construction, or operation, or construction and operation, of such . . . line . . . .” Thus, the Communications Act requires the Commission to ensure that not only the “construction” of the line, but also its “operation,” further the public convenience and necessity. In addition, the Communications Act requires the Commission to ensure that not only the present, but also the future operations of a telecommunications carrier authorized to provide service under section 214 further the public convenience and necessity. The Commission has authority to revoke such authorizations for national security reasons. The Commission recognized in the Evolving Risks Order and NPRM in 2023 that section 214 provides authority to impose a one-time foreign ownership reporting requirement on holders of international section 214 authorizations to, as here, “enable the Commission, in close collaboration with relevant Executive Branch agencies, to better protect telecommunications services and infrastructure in the United States in light of evolving national security, law enforcement, foreign policy, and trade policy risks.” Any person or entity that seeks to provide U.S.-international common carrier telecommunications service must obtain prior Commission approval by filing with the Commission an application for international section 214 authority that contains information required by § 63.18 of the Commission's rules. International section 214 authorization holders may provide service pursuant to their international section 214 authority by using their own facilities and/or by reselling service provided over another provider's facilities. It also recognized that section 214 provides authority to impose ongoing requirements for the promotion of national security. Relatedly, section 214(d) authorizes the Commission to require a common carrier “to provide itself with adequate facilities for the expeditious and efficient performance of its service as a common carrier”—authority that we believe highlights the importance of including foreign adversary ownership in our evaluation of whether carriers are satisfying this obligation and, more broadly, the “just and reasonable” and “public interest” standards in section 201(b).

We tentatively conclude that other Title II provisions also reflect relevant Commission authority and responsibilities. For example, section 222(a) of the Communications Act imposes a duty on “[e]very telecommunications carrier” to “protect the confidentiality of proprietary information of” customers. We tentatively conclude that the actions we propose today, if adopted, would follow from and implement this duty, because foreign adversary ownership or control heightens the risk that customer information will be used for reasons contrary to the wishes of the customer. Similarly, section 254 of the Communications Act provides direct authority to impose requirements on universal service support recipients, and the section 254(b)(1) objective of “[q]uality services” represents a statutory objective that makes it reasonable for us to consider the effects of foreign adversary ownership or control in that analysis.

Sections 211 through 220 of the Communications Act also assign to the Commission various general and specific authorities for oversight of common carriers, including “authority to require the filing of any other contracts of any carrier[;]”authority to “examine into transactions entered into by any common carrier which relate to the furnishing of equipment, supplies, research, services, finances, credit, or personnel to such carrier[;]” authority to “inquire into the management of the business of all carriers subject to this chapter” and to “obtain from such carriers and from persons directly or indirectly controlling or controlled by, or under direct or indirect common control with, such carriers full and complete information necessary to enable the Commission to perform the duties and carry out the objects for which it was created[;]” and the right of “access to and the right of inspection and examination of all accounts, records, and memoranda, including all documents, papers, and correspondence now or hereafter existing, and kept or required to be kept by such carriers.” Each of these authorities specifically, and the sum of them generally, demonstrate the Commission's authority to compel the production of information as discussed herein.

Other provisions of Title II have specific applicability to particular categories of Regulatees as defined in this document. We note in particular the applicability of section 251(e)(1) to the Commission's numbering programs, section 225 to Telecommunications Relay Services, and section 254 to participants in some of our spectrum and reverse auctions. We seek comment on whether there are other sources of authority in Title II that might be relevant to our analysis.

2. Title III of the Communications Act

Under Title III of the Communications Act, the Commission has the authority to issue licenses for, and generally to regulate, radio communications. Under section 301, no person may transmit energy or communications by radio without a license from the Commission, except where specifically allowed by our rules, and all such transmissions are subject to the Communications Act and the Commission's rules. The Commission grants those licenses pursuant to sections 307 through 310, and it retains authority to modify licenses pursuant to section 316. Construction permits are issued and may be conditioned pursuant to section 319. Licensees and other users permitted to operate may do so only subject to the Commission's broad Title III authority. That authority includes, among other things, the power under section 303(l)(1), to “prescribe the qualifications of station operators . . . and to issue [licenses] to persons who are found to be qualified by the Commission . . . .” Under section 303(r), the Commission may prescribe restrictions or conditions not inconsistent with law that may be necessary to carry out the provisions of the Communications Act, authority that the Commission has consistently used to impose conditions on licensees to ensure that the licenses are being used in the public interest. Significantly, section 310 includes specific provisions addressing foreign ownership of licensees. Section 310(a) prohibits any radio license from being granted to or held by any foreign government or a representative thereof. Section 310(b) restricts the extent to which foreign governments, entities, and individuals may hold ownership interests in any broadcast, common carrier, or aeronautical en route or aeronautical fixed radio station license, including through ownership of U.S. corporations. Under subsections (b)(3) and (b)(4), the Commission considers whether the public interest is served by foreign ownership above particular thresholds when held through U.S. companies. And, under section 310(d), no construction permit or station license may be assigned or transferred absent application to the Commission and a Commission finding “that the public interest, convenience, and necessary will be served thereby.” Applicants covered by section 310(d) are required to disclose foreign ownership interests when seeking Commission approval of license assignments or transfers. Aside from these provisions governing licensing and operation of stations, section 302 provides the Commission with broad authority to adopt reasonable regulations consistent with the public interest governing the interference potential of radiofrequency equipment, including authority to oversee private organizations that test and certify compliance with Commission regulations.

We believe that the Title III provisions discussed above, when read individually and in tandem with other Title III provisions and the purposes of the Communications Act, establish that the Commission is required to evaluate and, where necessary, take action on foreign ownership during the course of its licensing activities, and that imposing the certification and disclosure requirements proposed herein on licensees and other authorization holders therefore is a logical extension of the Commission's Title III responsibilities. Do commenters agree that these statutory provisions provide sufficient authority to adopt our proposed rules? What other provisions are relevant?

3. Additional Authority

Other provisions in the Communications Act and other statutes also give the Commission relevant authority. These include sections 1, 2, 3, 4, 222, 338(i), 601, and 631 of the Communications Act; section 706 of the Telecommunications Act of 1996; and section 6(a) of the Pallone-Thune Telephone Robocall Abuse Criminal Enforcement and Deterrence (TRACED) Act. We tentatively conclude that these provisions give us statutory authority to impose obligations such as those discussed in this document and that they also assign us statutory duties, such as the duty to “promot[e] the safety of life and property through the use of wire and radio communications” and the duty to require Regulatees to protect customers' private information, that are served by our proposals. Do commenters agree that those statutory provisions support our authority to adopt the proposals herein? What other sources of authority would provide authority for the proposed certification and reporting requirements, if any?

4. Title I of the Communications Act

We tentatively conclude our responsibilities and authority under section 4(i) and (n) provide additional authority for the Commission to adopt these proposals. For the reasons discussed above, these certifications and information collection requirements are necessary for the effective performance of our statutory responsibilities. We also believe that these proposed requirements are consistent with the purposes of the Communications Act and would support our duty to “investigate and study all aspects of the problem” to obtain “maximum effectiveness from the use of radio and wire communications in connection with safety of life and property.” We seek comment on our analysis and these tentative conclusions.

II. Initial Regulatory Flexibility Analysis

As required by the Regulatory Flexibility Act of 1980, as amended (RFA), the Federal Communications Commission (Commission) has prepared this Initial Regulatory Flexibility Analysis (IRFA) of the policies and rules proposed in the document assessing the possible significant economic impact on a substantial number of small entities. The Commission requests written public comments on this IRFA. Comments must be identified as responses to the IRFA and must be filed by the deadlines for comments specified on the first page of the document. The Commission will send a copy of the document, including this IRFA, to the Chief Counsel for Advocacy of the Small Business Administration (SBA). In addition, the document and IRFA (or summaries thereof) will be published in the Federal Register.

Need for, and Objectives of, the Proposed Rules

In the document, the Commission takes another important step to protect the nation's communications networks from foreign threats by proposing to expand foreign ownership disclosure requirements for Commission-issued licenses and authorizations. The overarching objective of this proceeding is to get a comprehensive view into the existence and scope of the presence of foreign adversaries within our communications networks, thereby improving the Commission's ability to eliminate or mitigate national security threats. To achieve this objective, the document proposes to adopt new certification and information collection requirements for licensees, authorization holders, permit holders, and holders of other approvals granted by the Commission (collectively, “Regulatee(s)”).

Specifically, the Commission seeks comment on our proposal to require entities holding certain licenses or authorizations to certify whether it is owned by, controlled by, or subject to the jurisdiction or direction of a foreign adversary. For any Regulatee that certifies that it is owned by, controlled by, or subject to the jurisdiction or direction of a foreign adversary, the document proposes to require disclosure of foreign ownership interests that meet or exceed 5% to the Commission. By the document, the Commission also seeks comment on the scope of Regulatees that should be subject to the proposed reporting requirements, including but not limited to, broadcast licensees, multichannel video programming distributors, wireless licensees, commercial radio operators, submarine cable landing licensees, satellite network licensees, equipment authorization holders, domestic and international section 214 authorization holders, International High Frequency authorization holders, Voice Over Internet Protocol (VoIP) direct access authorization holders, section 325(c) permit holders, Data Network Identification Code holders, International Signaling Point Code holders, recognized operating agencies, antenna structure registrants, frequency coordination entities, internet-based Telecommunications Relay Services (TRS) certification holders, and Commission auction participants. Through these proposals, we seek to ensure that the Commission is exercising appropriate oversight of licenses and authorizations to safeguard our communications networks, as well as enhance the ability of relevant stakeholders to assess and identify security risks.

Legal Basis

The proposed action is authorized pursuant to sections 1, 2, 3, 4(i), 4(n), 5, 11, 201-205, 211-220, 222, 225, 251(e), 254, 301, 302, 303, 304, 307-310, 312, 316, 319, 325, 332, 335, 336, 337, 338(i), 403, 409(e), 601, 631, and 653 of the Communications Act of 1934, as amended, 47 U.S.C. 151, 152, 153, 154(i), 154(n), 155, 161, 201-205, 211-220, 222, 225, 251(e), 254, 301, 302a, 303, 304, 307-310, 312, 316, 319, 325, 332, 335, 336, 337, 338(i), 403, 409(e), 521, 551, 573; sections 6001-6004, 6101-6102, 6201-6213, 6301-6303, 6401-6413, and 6502-6507 of the Middle Class Tax Relief and Job Creation Act of 2012, 47 U.S.C. 1401-1473; the Cable Landing License Act of 1921, 47 U.S.C. 34-39; Executive Order No. 10530, section 5(a) (May 12, 1954) reprinted as amended in 3 U.S.C. 301 note; section 601 of the Communications Satellite Act of 1961, 47 U.S.C. 761; section 706 of the Telecommunications Act of 1996, 47 U.S.C. 1302; and section 6(a) of the TRACED Act, 47 U.S.C. 227b-1.

1. Description and Estimate of the Number of Small Entities To Which the Proposed Rules Will Apply

The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act.” A “small business concern” is one which: (1) is independently owned and operated; (2) is not dominant in its field of operation; and (3) satisfies any additional criteria established by the SBA.

All Other Information Services. This industry comprises establishments primarily engaged in providing other information services (except news syndicates, libraries, archives, internet publishing and broadcasting, and Web search portals). The SBA small business size standard for this industry classifies firms with annual receipts of $47 million or less as small. U.S. Census Bureau data for 2017 show that there were 704 firms in this industry that operated for the entire year. Of those firms, 556 had revenue of less than $25 million. Consequently, we estimate that the majority of firms in this industry are small entities.

All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up ISPs) or Voice over Internet Protocol (VoIP) services, via client-supplied telecommunications connections are also included in this industry. The SBA small business size standard for this industry classifies firms with annual receipts of $40 million or less as small. U.S. Census Bureau data for 2017 show that there were 1,079 firms in this industry that operated for the entire year. Of those firms, 1,039 had revenue of less than $25 million. Based on this data, the Commission estimates that the majority of “All Other Telecommunications” firms can be considered small.

Amateur Radio Service. Amateur service is a radiocommunication service intended for self-training, intercommunication and technical investigations carried out by amateurs, that is, duly authorized persons interested in radio technique solely with a personal aim and without pecuniary interest. Amateur radio service encompasses amateur service, amateur-satellite service and radio amateur civil emergency service. Licenses are generally held by individuals but can also be held by clubs, associations and other non-profit entities. Radio Stations is the closest industry with a SBA small business size standard applicable to this service. The SBA small business size standard for this industry classifies a small entity as one that has $47 million or less in annual receipts. U.S. Census Bureau data for 2017 show that 2,963 firms operated in this industry during that year. Of this number, 1,879 firms operated with revenue of less than $25 million per year. Therefore, based on the SBA's size standard the majority of firms are small entities. Additionally, according to Commission data as of December 2021, there were approximately 841,734 active licenses for this service. While the majority of these licenses are held by individuals, the Commission estimates that the licenses in this service held by clubs, associations and other non-profit entities are small entities under the SBA small business size standard.

Auxiliary, Special Broadcast and Other Program Distribution Services. This service involves a variety of transmitters, generally used to relay broadcast programming to the public (through translator and booster stations) or within the program distribution chain (from a remote news gathering unit back to the station). Neither the SBA nor the Commission have developed a small business size standard applicable to broadcast auxiliary licensees. The closest applicable industries with a SBA small business size standard fall within two industries—Radio Stations and Television Broadcasting. The SBA small business size standard for Radio Stations classifies firms having $47 million or less in annual receipts as small. U.S. Census Bureau data for 2017 show that 2,963 firms operated in this industry during that year. Of that number, 1,879 firms operated with revenue of less than $25 million per year. For Television Broadcasting, the SBA small business size standard also classifies firms having $47 million or less in annual receipts as small. U.S. Census Bureau data for 2017 show that 744 firms in this industry operated for the entire year. Of that number, 657 firms had revenue of less than $25 million per year. Accordingly, based on the U.S. Census Bureau data for Radio Stations and Television Broadcasting, the Commission estimates that the majority of Auxiliary, Special Broadcast and Other Program Distribution Services firms are small under the SBA size standard.

Cable Companies and Systems (Rate Regulation). The Commission has developed its own small business size standard for the purpose of cable rate regulation. Under the Commission's rules, a “small cable company” is one serving 400,000 or fewer subscribers nationwide. Based on industry data, there are about 420 cable companies in the U.S. Of these, only seven have more than 400,000 subscribers. In addition, under the Commission's rules, a “small system” is a cable system serving 15,000 or fewer subscribers. Based on industry data, there are about 4,139 cable systems (headends) in the U.S. Of these, about 639 have more than 15,000 subscribers. Accordingly, the Commission estimates that the majority of cable companies and cable systems are small.

Cable System Operators (Telecom Act Standard). The Communications Act of 1934, as amended, contains a size standard for a “small cable operator,” which is “a cable operator that, directly or through an affiliate, serves in the aggregate fewer than one percent of all subscribers in the United States and is not affiliated with any entity or entities whose gross annual revenues in the aggregate exceed $250,000,000.” For purposes of the Telecom Act Standard, the Commission determined that a cable system operator that serves fewer than 498,000 subscribers, either directly or through affiliates, will meet the definition of a small cable operator. Based on industry data, only six cable system operators have more than 498,000 subscribers. Accordingly, the Commission estimates that the majority of cable system operators are small under this size standard. We note however, that the Commission neither requests nor collects information on whether cable system operators are affiliated with entities whose gross annual revenues exceed $250 million. Therefore, we are unable at this time to estimate with greater precision the number of cable system operators that would qualify as small cable operators under the definition in the Communications Act.

Computer Infrastructure Providers, Data Processing, Web Hosting, and Related Services. This industry comprises establishments primarily engaged in providing computing infrastructure, data processing services, Web hosting services (except software publishing), and related services, including streaming support services (except streaming distribution services). Cloud storage services, computer data storage services, computing platform infrastructure provision Infrastructure as a service (IaaS), optical scanning services, Platform as a service (PaaS), and video and audio technical streaming support services are included in this industry. Data processing establishments provide complete processing and specialized reports from data supplied by clients or provide automated data processing and data entry services. The SBA small business size standard for this industry classifies firms with annual receipts of $40 million or less as small. U.S. Census Bureau data for 2017 indicate that 9,058 firms in this industry were operational for the entire year. Of this total, 8,345 firms had revenue of less than $25 million. Thus, under the SBA size standard the majority of firms in this industry are small.

Facilities-Based Carriers (International Telecom Services). Facilities-based providers of international telecommunications services fall into the larger category of interexchange carriers. Neither the Commission nor the SBA has developed a small business size standard specifically for providers of interexchange services. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 127 providers that reported they were engaged in the provision of interexchange services. Of these providers, the Commission estimates that 109 providers have 1,500 or fewer employees. Consequently, using the SBA's small business size standard, the Commission estimates that the majority of providers in this industry can be considered small entities.

Fixed Microwave Services. Fixed microwave services include common carrier, private-operational fixed, and broadcast auxiliary radio services. They also include the Upper Microwave Flexible Use Service (UMFUS), Millimeter Wave Service (70/80/90 GHz), Local Multipoint Distribution Service (LMDS), the Digital Electronic Message Service (DEMS), 24 GHz Service, Multiple Address Systems (MAS), and Multichannel Video Distribution and Data Service (MVDDS), where in some bands licensees can choose between common carrier and non-common carrier status. Wireless Telecommunications Carriers (except Satellite) is the closest industry with a SBA small business size standard applicable to these services. The SBA small size standard for this industry classifies a business as small if it has 1,500 or fewer employees. U.S. Census Bureau data for 2017 show that there were 2,893 firms that operated in this industry for the entire year. Of this number, 2,837 firms employed fewer than 250 employees. Thus under the SBA size standard, the Commission estimates that a majority of fixed microwave service licensees can be considered small.

The Commission's small business size standards with respect to fixed microwave services involve eligibility for bidding credits and installment payments in the auction of licenses for the various frequency bands included in fixed microwave services. When bidding credits are adopted for the auction of licenses in fixed microwave services frequency bands, such credits may be available to several types of small businesses based average gross revenues (small, very small and entrepreneur) pursuant to the competitive bidding rules adopted in conjunction with the requirements for the auction and/or as identified in Part 101 of the Commission's rules for the specific fixed microwave services frequency bands.

In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time we are not able to estimate the number of licensees with active licenses that would qualify as small under the SBA's small business size standard.

Fixed Satellite Small Transmit/Receive Earth Stations. Neither the SBA nor the Commission have developed a small business size standard specifically applicable to Fixed Satellite Small Transmit/Receive Earth Stations. Satellite Telecommunications is the closest industry with an SBA small business size standard. The SBA size standard for this industry classifies a business as small if it has $44 million or less in annual receipts. For this industry, U.S. Census Bureau data for 2017 show that there was a total of 275 firms that operated for the entire year. Of this total, 242 firms had revenue of less than $25 million. Consequently, using the SBA's small business size standard most fixed satellite small transmit/receive earth stations can be considered small entities. The Commission notes however, that the SBA's revenue small business size standard is applicable to a broad scope of satellite telecommunications providers included in the U.S. Census Bureau's Satellite Telecommunications industry definition. Additionally, the Commission does not request nor collect annual revenue information from satellite telecommunications providers, and is therefore unable to more accurately estimate the number of fixed satellite small transmit/receive earth stations that would be classified as a small business under the SBA size standard.

Frequency Coordinators. Frequency coordinators are entities or organizations certified by the Commission to recommend frequencies for use by licensees in the Private Land Mobile Radio Services (PLMR) that will most effectively meet the applicant's needs while minimizing interference to licensees already operating within a given frequency band. Neither the Commission nor the SBA have developed a small business size standard specifically applicable to spectrum frequency coordinators. Business Associations which comprises establishments primarily engaged in promoting the business interests of their member, is the closest applicable industry with a SBA small business size standard.

The SBA small business size standard for Business Associations classifies firms with annual receipts of $15.5 million or less as small. For this industry, U.S. Census Bureau data for 2017 show that there were 14,540 firms that operated for the entire year. Of these firms, 11,215 had revenue of less than $5 million. Based on this data, the majority of firms in the Business Associations industry can be considered small. However, the Business Associations industry is very broad and does not include specific figures for firms that are engaged in frequency coordination. Thus, the Commission is unable to ascertain exactly how many of the frequency coordinators are classified as small entities under the SBA size standard. According to Commission data, there are 13 entities certified to perform frequency coordination functions under Part 90 of the Commission's rules. For purposes of this IRFA the Commission estimates that a majority of the 13 FCC-certified frequency coordinators are small.

Internet Publishing and Broadcasting and Web Search Portals. This industry comprises establishments primarily engaged in (1) publishing and/or broadcasting content on the internet exclusively or (2) operating websites that use a search engine to generate and maintain extensive databases of internet addresses and content in an easily searchable format (and known as Web search portals). The publishing and broadcasting establishments in this industry do not provide traditional (non-internet) versions of the content that they publish or broadcast. They provide textual, audio, and/or video content of general or specific interest on the internet exclusively. Establishments known as web search portals often provide additional internet services, such as email, connections to other websites, auctions, news, and other limited content, and serve as a home base for internet users. The SBA small business size standard for this industry classifies firms having 1,000 or fewer employees as small. U.S. Census Bureau data for 2017 show that there were firms that 5,117 operated for the entire year. Of this total, 5,002 firms operated with fewer than 250 employees. Thus, under this size standard the majority of firms in this industry can be considered small.

Licenses Assigned by Auctions. The Commission's small business size standards with respect to Licenses Assigned by Auction involve eligibility for bidding credits and installment payments in the auction of licenses for various wireless frequencies. In the auction of these licenses, the Commission may define and adopt criteria for different classes small businesses—very small, small or entrepreneur. The criteria for these small business classes may be statutorily defined in the Commission's rules or may require consultation with the U.S. Small Business Administration, Office of Size Standards. For licenses subject to auction, the number of winning bidders that qualify as small businesses at the close of an auction does not necessarily represent the number of small businesses currently in service. In addition, the Commission does not generally track subsequent business size unless, in the context of assignments or transfers, unjust enrichment issues are implicated.

Mobile Satellite Earth Stations. Neither the SBA nor the Commission have developed a small business size standard specifically applicable to Mobile Satellite Earth Stations. Satellite Telecommunications is the closest industry with a SBA small business size standard. The SBA small business size standard classifies a business with $44 million or less in annual receipts as small. For this industry, U.S. Census Bureau data for 2017 show that there were 275 firms that operated for the entire year. Of this number, 242 firms had revenue of less than $25 million. Thus, for this industry under the SBA size standard, the Commission estimates that the majority of Mobile Satellite Earth Station licensees are small entities. The Commission notes however, that the SBA's revenue small business size standard is applicable to a broad scope of satellite telecommunications providers included in the U.S. Census Bureau's Satellite Telecommunications industry definition. Additionally, based on Commission data as of February 1, 2024, there were 16 Mobile Satellite Earth Stations licensees. The Commission does not request nor collect annual revenue information from satellite telecommunications providers, and is therefore unable to estimate the number of Mobile Satellite Earth Station licensees that would be classified as a small business under the SBA size standard.

Other Communications Equipment Manufacturing. This industry comprises establishments primarily engaged in manufacturing communications equipment (except telephone apparatus, and radio and television broadcast, and wireless communications equipment). Examples of such manufacturing include fire detection and alarm systems manufacturing, Intercom systems and equipment manufacturing, and signals (e.g., highway, pedestrian, railway, traffic) manufacturing. The SBA small business size standard for this industry classifies firms having 750 or fewer employees as small. U.S. Census Bureau data for 2017 show that 321 firms in this industry operated for the entire year. Of this number, 310 firms operated with fewer than 250 employees. Based on this data, we conclude that the majority of firms in this industry are small.

Private Land Mobile Radio Licensees. Private land mobile radio (PLMR) systems serve an essential role in a vast range of industrial, business, land transportation, and public safety activities. Companies of all sizes operating in all U.S. business categories use these radios. Wireless Telecommunications Carriers (except Satellite) which encompasses business entities engaged in radiotelephone communications, is the closest industry with an SBA small business size standard applicable to these services. The SBA small size standard for this industry classifies a business as small if it has 1,500 or fewer employees. U.S. Census Bureau data for 2017 show that there were 2,893 firms that operated in this industry for the entire year. Of this number, 2,837 firms employed fewer than 250 employees. Thus, under the SBA size standard, the Commission estimates licensees in this industry can be considered small.

Based on Commission data as of December 14, 2021, there are approximately 387,370 active PLMR licenses. Active PLMR licenses include 3,577 licenses in the 4.9 GHz band; 19,011 licenses in the 800 MHz band; and 2,716 licenses in the 900 MHz band. Since the Commission does not collect data on the number of employees for licensees providing these services, at this time we are not able to estimate the number of licensees with active licenses that would qualify as small under the SBA's small business size standard. Nevertheless, the Commission believes that a substantial number of PLMR licensees are small entities.

Radio and Television Broadcasting and Wireless Communications Equipment Manufacturing. This industry comprises establishments primarily engaged in manufacturing radio and television broadcast and wireless communications equipment. Examples of products made by these establishments are: transmitting and receiving antennas, cable television equipment, GPS equipment, pagers, cellular phones, mobile communications equipment, and radio and television studio and broadcasting equipment. The SBA small business size standard for this industry classifies businesses having 1,250 employees or less as small. U.S. Census Bureau data for 2017 show that there were 656 firms in this industry that operated for the entire year. Of this number, 624 firms had fewer than 250 employees. Thus, under the SBA size standard, the majority of firms in this industry can be considered small.

Radio Stations. This industry is comprised of “establishments primarily engaged in broadcasting aural programs by radio to the public.” Programming may originate in their own studio, from an affiliated network, or from external sources. The SBA small business size standard for this industry classifies firms having $47 million or less in annual receipts as small. U.S. Census Bureau data for 2017 show that 2,963 firms operated in this industry during that year. Of this number, 1,879 firms operated with revenue of less than $25 million per year. Based on this data and the SBA's small business size standard, we estimate a majority of such entities are small entities.

The Commission estimates that as of March 31, 2025, there were 4,367 licensed commercial AM radio stations and 6,621 licensed commercial FM radio stations, for a combined total of 10,988 commercial radio stations. Of this total, 10,987 stations (or 99.99%) had revenues of $47 million or less in 2023, according to Commission staff review of the BIA Kelsey Inc. Media Access Pro Database (BIA) on April 4, 2025, and therefore these licensees qualify as small entities under the SBA definition. In addition, the Commission estimates that as of March 31, 2025, there were 4,634 licensed noncommercial (NCE) FM radio stations, 1,976 low power FM (LPFM) stations, and 8,891 FM translators and boosters. The Commission however does not compile, and otherwise does not have access to financial information for these radio stations that would permit it to determine how many of these stations qualify as small entities under the SBA small business size standard. Nevertheless, given the SBA's large annual receipts threshold for this industry and the nature of radio station licensees, we presume that all of these entities qualify as small entities under the above SBA small business size standard.

We note, however, that in assessing whether a business concern qualifies as “small” under the above definition, business (control) affiliations must be included. Our estimate, therefore, likely overstates the number of small entities that might be affected by our action, because the revenue figure on which it is based does not include or aggregate revenues from affiliated companies. In addition, another element of the definition of “small business” requires that an entity not be dominant in its field of operation. We are unable at this time to define or quantify the criteria that would establish whether a specific radio or television broadcast station is dominant in its field of operation. Accordingly, the estimate of small businesses to which the rules may apply does not exclude any radio or television station from the definition of a small business on this basis and is therefore possibly over-inclusive. An additional element of the definition of “small business” is that the entity must be independently owned and operated. Because it is difficult to assess these criteria in the context of media entities, the estimate of small businesses to which the rules may apply does not exclude any radio or television station from the definition of a small business on this basis and similarly may be over-inclusive.

Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $44 million or less in annual receipts as small. U.S. Census Bureau data for 2017 show that 275 firms in this industry operated for the entire year. Of this number, 242 firms had revenue of less than $25 million. Consequently, using the SBA's small business size standard most satellite telecommunications service providers can be considered small entities. The Commission notes however, that the SBA's revenue small business size standard is applicable to a broad scope of satellite telecommunications providers included in the U.S. Census Bureau's Satellite Telecommunications industry definition. Additionally, the Commission neither requests nor collects annual revenue information from satellite telecommunications providers, and is therefore unable to more accurately estimate the number of satellite telecommunications providers that would be classified as a small business under the SBA size standard.

Small Businesses, Small Organizations, Small Governmental Jurisdictions. Our actions, over time, may affect small entities that are not easily categorized at present. We therefore describe, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 34.75 million businesses.

Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2022, there were approximately 530,109 small exempt organizations in the U.S. reporting revenues of $50,000 or less according to the registration and tax data for exempt organizations available from the IRS.

Finally, the small entity described as a “small governmental jurisdiction” is defined generally as “governments of cities, counties, towns, townships, villages, school districts, or special districts, with a population of less than fifty thousand.” U.S. Census Bureau data from the 2022 Census of Governments indicate there were 90,837 local governmental jurisdictions consisting of general purpose governments and special purpose governments in the United States. Of this number, there were 36,845 general purpose governments (county, municipal, and town or township) with populations of less than 50,000 and 11,879 special purpose governments (independent school districts) with enrollment populations of less than 50,000. Accordingly, based on the 2022 U.S. Census of Governments data, we estimate that at least 48,724 entities fall into the category of “small governmental jurisdictions.”

Telecommunications Relay Service (TRS) Providers. Telecommunications relay services enable individuals who are deaf, hard of hearing, deafblind, or who have a speech disability to communicate by telephone in a manner that is functionally equivalent to using voice communication services. Internet-based TRS connects an individual with a hearing or a speech disability to a TRS communications assistant using an internet Protocol-enabled device via the internet, rather than the public switched telephone network. Video Relay Service (VRS) one form of internet-based TRS, enables people with hearing or speech disabilities who use sign language to communicate with voice telephone users over a broadband connection using a video communication device. Internet Protocol Captioned Telephone Service (IP CTS) another form of internet-based TRS, permits a person with hearing loss to have a telephone conversation while reading captions of what the other party is saying on an internet-connected device. A third form of internet-based TRS, internet Protocol Relay Service (IP Relay), permits an individual with a hearing or a speech disability to communicate in text using an internet Protocol-enabled device via the internet, rather than using a text telephone (TTY) and the public switched telephone network. Providers must be certified by the Commission to provide internet-based TRS and to receive compensation from the TRS Fund for TRS provided in accordance with applicable rules. Analog forms of TRS, text telephone (TTY), Speech-to-Speech Relay Service, and Captioned Telephone Service, are provided through state TRS programs, which also must be certified by the Commission.

Neither the Commission nor the SBA have developed a small business size standard specifically for TRS Providers. All Other Telecommunications is the closest industry with a SBA small business size standard. Internet Service Providers (ISPs) and Voice over Internet Protocol (VoIP) services, via client-supplied telecommunications connections are included in this industry. The SBA small business size standard for this industry classifies firms with annual receipts of $35 million or less as small. U.S. Census Bureau data for 2017 show that there were 1,079 firms in this industry that operated for the entire year. Of those firms, 1,039 had revenue of less than $25 million. Based on Commission data there are 17 certified internet-based TRS providers and two analog forms of TRS providers. The Commission however does not compile financial information for these providers. Nevertheless, based on available information, the Commission estimates that most providers in this industry are small entities.

Telecommunications Resellers. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for this industry classifies a business as small if it has 1,500 or fewer employees. U.S. Census Bureau data for 2017 show that 1,386 firms operated in this industry for the entire year. Of that number, 1,375 firms operated with fewer than 250 employees. Additionally, based on Commission data in the 2022 Universal Service Monitoring Report, as of December 31, 2021, there were 666 providers that reported they were engaged in the provision of local or toll resale services. Of these providers, the Commission estimates that 640 providers have 1,500 or fewer employees. Consequently, using the SBA's small business size standard, most of these providers can be considered small entities.

Television Broadcasting. This industry is comprised of “establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA small business size standard for this industry classifies businesses having $47 million or less in annual receipts as small. 2017 U.S. Census Bureau data indicate that 744 firms in this industry operated for the entire year. Of that number, 657 firms had revenue of less than $25 million per year. Based on this data we estimate that the majority of television broadcasters are small entities under the SBA small business size standard.

As of March 31, 2025, there were 1,384 licensed commercial television stations. Of this total, 1,307 stations (or 94.4%) had revenues of $47 million or less in 2023, according to Commission staff review of the BIA Kelsey Inc. Media Access Pro Television Database (BIA) on April 4, 2025, and therefore these licensees qualify as small entities under the SBA definition. In addition, the Commission estimates as of March 31, 2025, there were 383 licensed noncommercial educational (NCE) television stations, 383 Class A TV stations, 1,786 LPTV stations and 3,099 TV translator stations. The Commission, however, does not compile and otherwise does not have access to financial information for these television broadcast stations that would permit it to determine how many of these stations qualify as small entities under the SBA small business size standard. Nevertheless, given the SBA's large annual receipts threshold for this industry and the nature of these television station licensees, we presume that all of these entities qualify as small entities under the above SBA small business size standard.

Uncrewed Aircraft Radio Equipment Manufacturers. Neither the SBA nor the Commission have developed a small business size standard specifically applicable to uncrewed aircraft radio equipment manufacturers. Radio and Television Broadcasting and Wireless Communications Equipment Manufacturing is the closest industry with a SBA small business size standard. The SBA small business size standard for this industry classifies businesses having 1,250 employees or less as small. U.S. Census Bureau data for 2017 show that there were 656 firms in this industry that operated for the entire year. Of this number, 624 firms had fewer than 250 employees. In addition, the SBA provides a size standard for the Aircraft Manufacturing industry which includes the manufacture of uncrewed and robotic aircraft. The SBA small business size standard for this industry classifies businesses having 1,500 employees or less as small. U.S. Census Bureau data for 2017 show that there were 254 firms in this industry that operated for the entire year. Of this number, 227 firms had fewer than 250 employees. Based on this data, we conclude that a majority of manufacturers in this industry are small.

Uncrewed Aircraft System Operators. Neither the Commission nor the SBA have developed a small business size standard specifically applicable to UAS operators. The Commission lacks data on the number of operators in the United States that could be subject to the rules, therefore it is not possible to determine the number of affected small entity operators at this time. We find, however, that the Regulatory Flexibility Analysis of the Federal Aviation Administration (FAA) Remote ID rule is helpful. In this analysis, the FAA assessed the impact of the rule on small entity non-recreational UAS operators based on an analysis that the Association for Uncrewed Vehicle Systems International (AUVSI) performed relating to part 107 waivers. In the analysis, the AUVSI determined that 92 percent of the waivers were issued to entities with fewer than 100 employees. Based on this data, the FAA determined that a majority of entities operating uncrewed aircraft for other than recreational purposes are small. Accordingly, based on the FAA's determination we conclude that a majority of uncrewed UAS operators are small entities.

Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were engaged in the provision of fixed local services. Of these providers, the Commission estimates that 4,146 providers have 1,500 or fewer employees. Consequently, using the SBA's small business size standard, most of these providers can be considered small entities.

Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

2. Description of Economic Impact and Projected Reporting, Recordkeeping, and Other Compliance Requirements for Small Entities

The RFA directs agencies to describe the economic impact of proposed rules on small entities, as well as projected reporting, recordkeeping and other compliance requirements, including an estimate of the classes of small entities which will be subject to the requirements and the type of professional skills necessary for preparation of the report or record.

Given the increasing concerns about ensuring the security and integrity of our communications infrastructure, the document proposes new reporting and compliance requirements that will increase transparency and visibility about entities holding Commission licenses and authorizations and their relationships to foreign adversaries. First, the document proposes to require an officer, on behalf of a Regulatee, to certify that it is or is not owned by, controlled by, or subject to the jurisdiction or direction of a foreign adversary. The Commission proposes requiring an initial certification and a new certification within 30 days of any changes to ownership involving a foreign adversary or a new interest of 5% or greater. Second, we propose to require each Regulatee that certifies to foreign ownership to submit information identifying its 5% or greater interest holders (both foreign and non-foreign). Third, we propose to adopt these certification and information collection requirements for certain types of licenses held by small and other Regulatees, including: broadcast licensees, multichannel video programming distributors, wireless licensees, commercial radio operators, submarine cable landing licenses, satellite network licensees, equipment authorization holders, domestic and international section 214 authorization holders, International High Frequency authorization holders, VoIP direct access authorization holders, section 325(c) permit holders, Data Network Identification Code holders, International Signaling Point Code holders, recognized operating agencies, antenna structure registrants, frequency coordination entities, internet-based TRS certification holders, and Commission auction participants. Fourth, the document proposes to collect this data through a single, consolidated system. Fifth, we propose to require submission of the certification and information within a 60-day window. Finally, we propose to adopt a streamlined revocation procedure in the event that a Regulatee makes a false certification or fails to timely, accurately, or completely respond to the certification and information collection requirements, and alternatively seeks comment on applying revocation on a case-by-case basis based upon finding that the failure is “willful” or presents other concerns. The document also seeks comment on what other types of actions to take in the event an entity falsely certifies or fails to provide ownership information

The Commission estimates that any compliance costs for small entities will be minimal. Many Regulatees are subject to existing Commission rules that require foreign ownership reporting, or other rules which require licensees to identify investors with significant control over the organization. For small entities that do not currently report foreign ownership, we estimate reporting costs of $80 per licensee. We seek comment on the likely costs and benefits of these proposals, including information to allow the Commission to further quantify the costs of compliance for small entities in order to determine whether it will be necessary for small entities to hire professionals to comply with the proposed rules if adopted.

3. Discussion of Significant Alternatives Considered That Minimize the Significant Economic Impact on Small Entities

The RFA directs agencies to provide a description of any significant alternatives to the proposed rules that would accomplish the stated objectives of applicable statutes, and minimize any significant economic impact on small entities. The discussion is required to include alternatives such as: “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

The document seeks comment from all interested parties on the proposals and what potential burdens would be imposed by requiring disclosure of foreign ownership information for all applicants, licensees, and authorization holders, including small entities. The document considers and requests comment on whether there are alternative proposals that would achieve similar objectives. For example, the document considers whether to make the foreign ownership reporting requirement a one-time collection, or an annual certification. The adoption of a one-time collection requirements could pose less of an administrative burden thereby minimizing the economic impact for small entities. The document also considers whether the Commission should use the existing licensing systems to collect this information, or create a new system to meet these goals, and requests comment. Using an existing system may diminish administrative burden for small entities that are already familiar with Commission licensing systems. While the document proposes to require the foreign ownership certification for broad range of Regulatees, it also seeks comment on whether to limit this requirement to licensees with reportable foreign adversary control, or whether the information collected should vary based on the license or authorization. Either of these options may limit the scope of small entity Regulatees that would need to comply with the proposed requirements. To ensure the Commission maintains accurate information, the document also proposes that Regulatees should be required to notify the Commission of changes to their foreign ownership within 30 days and recertify, and recertify if new entities are added to the list of foreign adversaries. To assist in the Commission's evaluation of the impact on the various types of licensees, the document seeks comment on whether there are any circumstances where an exemption from the foreign adversary reporting requirement would be appropriate, such as for international section 214 holders which submitted similar information in a prior data collection. Additionally, we seek comment on other alternatives the Commission should consider to ease compliance costs and other burdens the proposed rules may impose on small entities.

4. Federal Rules That May Duplicate, Overlap, or Conflict With the Proposed Rules

None.

III. Procedural Matters

Paperwork Reduction Act. This document may contain proposed new and revised information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. § 3506(c)(4), we seek specific comment on how we might further reduce the information collection burden for small business concerns with fewer than 25 employees.

Providing Accountability Through Transparency Act. Consistent with the Providing Accountability Through Transparency Act, Public Law 118-9, a summary of this document will be available on https://www.fcc.gov/proposed-rulemakings.

OPEN Government Data Act. The OPEN Government Data Act, requires agencies to make “public data assets” available under an open license and as “open Government data assets,” i.e., in machine-readable, open format, unencumbered by use restrictions other than intellectual property rights, and based on an open standard that is maintained by a standards organization. This requirement is to be implemented “in accordance with guidance by the Director” of the OMB. The term “public data asset” means “a data asset, or part thereof, maintained by the Federal Government that has been, or may be, released to the public, including any data asset, or part thereof, subject to disclosure under [the Freedom of Information Act (FOIA)].” A “data asset” is “a collection of data elements or data sets that may be grouped together,” and “data” is “recorded information, regardless of form or the media on which the data is recorded.”

Ex parte presentations—permit-but-disclose. The proceeding this document initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the Commission's rules or for which the Commission has made available a method of electronic filing, written ex parte presentations and memoranda summarizing oral ex parte presentations, and all attachments thereto, must be filed through the electronic comment filing system available for that proceeding, and must, when feasible, be filed in their native format (e.g., .doc, .xml, .ppt, searchable .pdf). Participants in this proceeding should familiarize themselves with the Commission's ex parte rules.

Comment filing procedures. Pursuant to §§ 1.415 and 1.419 of the Commission's rules, 47 CFR 1.415, 1.419, interested parties may file comments and reply comments on or before the dates indicated on the first page of this document. Comments may be filed using the Commission's Electronic Comment Filing System (ECFS).

• Electronic Filers: Comments may be filed electronically using the internet by accessing the ECFS: https://www.fcc.gov/ecfs.

• Paper Filers: Parties who choose to file by paper must file an original and one copy of each filing.

○ Filings can be sent by hand or messenger delivery, by commercial courier, or by the U.S. Postal Service. All filings must be addressed to the Secretary, Federal Communications Commission.

○ Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

○ Commercial courier deliveries (any deliveries not by the U.S. Postal Service) must be sent to 9050 Junction Drive, Annapolis Junction, MD 20701.

○ Filings sent by U.S. Postal Service First-Class Mail, Priority Mail, and Priority Mail Express must be sent to 45 L Street NE, Washington, DC 20554.

Accessible formats. To request materials in accessible formats for people with disabilities (Braille, large print, electronic files, audio format), send an email to fcc504@fcc.gov or call the Consumer & Governmental Affairs Bureau at 202-418-0530 (voice).

Additional information. For further information about the document, contact Mason Shefa, Attorney Advisor, Competition Policy Division, Wireline Competition Bureau, at Mason.Shefa@fcc.gov or (202) 418-2494; Andrew McArdell, Attorney Advisor, Mobility Division, Wireless Telecommunications Bureau, at Andrew.McArdell@fcc.gov or (202) 418-1576; Gabrielle Kim, Attorney Advisor, Telecommunications and Analysis Division, Office of International Affairs, at Gabrielle.Kim@fcc.gov or (202) 418-0730; Michael Connelly, Deputy Chief, Operations and Emergency Management Division, Public Safety and Homeland Security Bureau, at Michael.Connelly@fcc.gov or (202) 418-0132; or Brendan Murray, Deputy Chief, Policy Division, Media Bureau, at Brendan.Murray@fcc.gov or (202) 418-1573.

IV. Ordering Clauses

Accordingly, pursuant to sections 1, 2, 3, 4(i), 4(n), 5, 11, 201-205, 211-220, 222, 225, 251(e), 254, 301, 302, 303, 304, 307-310, 312, 316, 319, 325, 332, 335, 336, 337, 338(i), 403, 409(e), 601, 631, and 653 of the Communications Act of 1934, as amended, 47 U.S.C. 151, 152, 153, 154(i), 154(n), 155, 161, 201-205, 211-220, 222, 225, 251(e), 254, 301, 302a, 303, 304, 307-310, 312, 316, 319, 325, 332, 335, 336, 337, 338(i), 403, 409(e), 521, 551, 573; sections 6001-6004, 6101-6102, 6201-6213, 6301-6303, 6401-6413, and 6502-6507 of the Middle Class Tax Relief and Job Creation Act of 2012, 47 U.S.C. 1401-1473; the Cable Landing License Act of 1921, 47 U.S.C. 34-39; Executive Order No. 10530, section 5(a) (May 12, 1954) reprinted as amended in 3 U.S.C. 301 note; section 601 of the Communications Satellite Act of 1961, 47 U.S.C. 761; section 706 of the Telecommunications Act of 1996, 47 U.S.C. 1302; and section 6(a) of the TRACED Act, 47 U.S.C. 227b-1, this document is adopted.

It is further ordered that the Commission's Office of the Secretary, shall send a copy of this document, including the Initial Regulatory Flexibility Analysis, to the Chief Counsel for Advocacy of the Small Business Administration.

Federal Communications Commission.
Marlene Dortch,
Secretary.

[FR Doc. 2025-11360 Filed 6-18-25; 8:45 am]

BILLING CODE 6712-01-P